DEPARTMENT OF THE INTERIOR

Bureau of Indian Affairs

[189A2100DD/AAKC001030/A0A501010.999900 253G]

Indian Child Welfare Act; Designated Tribal Agents for Service of Notice

AGENCY: Bureau of Indians Affairs, Interior.

ACTION: Notice.

SUMMARY: The regulations implementing the Indian Child Welfare Act provide that Indian Tribes may designate an agent other than the Tribal chairman for service of notice of proceedings under the Act. This notice includes the current list of designated Tribal agents for service of notice.

FOR FURTHER INFORMATION CONTACT: Evangeline Campbell, Bureau of Indian Affairs, Chief, Division of Human Services, 1849 C Street NW, Mail Stop 3641-MIB, Washington, DC 20240; Phone: (202) 513-7621.

SUPPLEMENTARY INFORMATION: The regulations implementing the Indian Child Welfare Act, 25 U.S.C. 1901 et seq., provide that Indian Tribes may designate an agent other than the Tribal chairman for service of notice of proceedings under the Act. See 25 CFR 23.12. The Secretary of the Interior is required to update and publish in the Federal Register as necessary the names and addresses of the designated Tribal agents. This notice is published in exercise of authority delegated by the Secretary of the Interior to the Principal Deputy Assistant Secretary—Indian Affairs by 209 DM 8.

In any involuntary proceeding in a State court where the court knows or has reason to know that an Indian child is involved, and where the identity and location of the child's parent or Indian custodian or Tribe is known, the party seeking the foster-care placement of, or termination of parental rights to, an Indian child must directly notify the parents, the Indian custodians, and the child's Tribe by registered or certified mail with return receipt requested, of the pending child-custody proceedings and their right of intervention. Copies of these notices must be sent to the appropriate Regional Director by registered or certified mail with return receipt requested or by personal delivery. See 25 CFR 23.11.

If the identity or location of the child's parents, the child's Indian custodian, or the Tribes in which the Indian child is a member or eligible for membership cannot be ascertained, but there is reason to know the child is an Indian child, notice of the child-custody proceeding must be sent to the appropriate Bureau of Indian Affairs Regional Director (see www.bia.gov). See 25 CFR 23.111.

No notices, except for final adoption decrees, are required to be sent to the BIA Central Office in Washington, DC.

This notice presents, in two different formats, the names and addresses of current designated Tribal agents for service of notice, and includes each designated Tribal agent received by the Secretary of the Interior prior to the date of this publication. Part A, published in this notice, lists designated Tribal agents by region and alphabetically by Tribe within each region. Part A is also available electronically at http://www.bia.gov/WhoWeAre/BIA/OIS/HumanServices/index.htm.

Part B is a table that lists designated Tribal agents alphabetically by the Tribal affiliation (first listing American Indian Tribes, then listing Alaska Native Tribes). Part B is only available electronically at http://www.bia.gov/WhoWeAre/BIA/OIS/HumanServices/index.htm.

Each format also lists the Bureau of Indian Affairs contact(s) for each of the twelve regions.

A. List of Designated Tribal Agents by Region

1. Alaska Region

2. Eastern Region

3. Eastern Oklahoma Region

4. Great Plains Region

5. Midwest Region

6. Navajo Region

7. Northwest Region

8. Pacific Region

9. Rocky Mountain Region

10. Southern Plains Region

11. Southwest Region

12. Western Region

A. List of Designated Tribal Agents by Region

1. Alaska Region

Alaska Regional Director, Bureau of Indian Affairs, Human Services, 3601 C Street, Suite 1100 Anchorage, Alaska 99503; Phone: (907) 271-4111.

Tribe | ICWA POC | Mailing address | Phone No. | Fax No. | Email address
Afognak, Native Village of | Denise Malutin, Cultural Programs Coordinator | 323 Carolyn Street, Kodiak, AK 99615 | (907) 486-6357 | (907) 486-6529 | denise@afognak.org.
Afognak, Native Village of | Taletha Gertz, Program Manager | 323 Carolyn Street, Kodiak, AK 99615 | (907) 486-6357 | (907) 486-6529 | taletha@afognak.org.
Afognak, Native Village of | Melissa Borton, Tribal Administrator | 323 Carolyn Street, Kodiak, AK 99615 | (907) 486-6357 | (907) 486-6529 | Melissa@afognak.org.
Agdaagux Tribe of King Cove | Ozzy E. Escarate, ICWA Representative | Aleutian/Pribilof Islands Association, 1131 East International, Airport Road, Anchorage, AK 99518-1408 | (907) 276-2700 | (907) 222-9735 | icwa@apiai.org.
Akhiok, Native Village of | Hannah Gordon, ICWA Specialist | Kodiak Area Native Association, 3449 Rezanof Drive East, Kodiak, AK 99615 | (907) 486-1370 | (907) 486-4829 | hannah.gordon@kanaweb.org; ICWA@kanaweb.org.
Akiachak Native Community | Georgianna Wassilie, ICWA Worker | P.O. Box 51070, Akiachak, AK 99551 | (907) 825-4073 or (907) 825-4626 | (907) 825-4029 | gwassilie@avcp.org.
Akiachak Native Community | Jonathan Lomack, Tribal Administrator | P.O. Box 51070, Akiachak, AK 99551 | (907) 825-4073 or (907) 825-4626 | (907) 825-4029 | N/A.
Akiachak Native Community | Cheryl Offt, ICWA Director | Association of Village Council Presidents, P.O. Box 219, Bethel, AK 99559 | (907) 543-7461 | (907) 543-5759 | cofft@avcp.org.
Akiak Native Community | David Gilila Sr., ICWA Director | P.O. Box 52127, Akiak, AK 99552 | (907) 765-7909 | (907) 765-7512 | N/A.
Akutan, Native Village of | Ozzy E. Escarate, ICWA Representative | Aleutian/Pribilof Islands Association, 1131 East International, Airport Road, Anchorage, AK 99518-1408 | (907) 276-2700 | (907) 222-9735 | icwa@apiai.org.
Alakanuk, Native Village of | Charlene Striling, ICWA Worker | Box 149, Alakanuk, AK 99554 | (907) 238-3704 | (907) 238-3705 | cstriling@avcp.org.
Alakanuk, Native Village of | Ray Oney, Tribal Administrator | Box 149, Alakanuk, AK 99554 | (907) 238-3419 | (907) 238-3429 | roney@avcp.org.
Alakanuk, Native Village of | Cheryl Offt, ICWA Director | Association of Village Council Presidents, P.O. Box 219, Bethel, AK 99559 | (907) 543-7461 | (907) 543-5759 | cofft@avcp.org.
Alatna Village |  | P.O. Box 70, Allakaket, AK 99720 | (907) 968-2261 | (907) 968-2305 | N/A.
Alatna Village |  | Tanana Chiefs Conference, Legal Department, 122 First Avenue, Suite 600, Fairbanks, AK 99701 | (907) 452-8251 Ext. 3178 | (907) 459-3953 | N/A.
Aleknagik, Native Village of | Jane Gottschalk, Caseworker | ICWA, P.O. Box 115, Aleknagik, AK 99555 | (907) 842-4577 | (907) 842-2229 | aleknagokicwa@bbna.com.
Aleknagik, Native Village of | Cynthia Nixon | Bristol Bay Native Association, Children's Services Division Manager, P.O. Box 310, 1500 Kanakanak Road, Dillingham, AK 99576 | (907) 842-4139 | (907) 842-4106 | cnixon@bbna.com.
Algaaciq Native Village (St. Mary's) | Theresa Kelly, ICWA Worker | Box 48, St. Mary's, AK 99658 | (907) 438-2335 | (907) 438-2227 | tkelly@avcp.org.
Algaaciq Native Village (St. Mary's) | Sven Paukan, Tribal Administrator | Box 48, St. Mary's, AK 99658 | (907) 438-2932 | (907) 438-2227 | N/A.
Algaaciq Native Village (St. Mary's) | Cheryl Offt, ICWA Director | Association of Village Council Presidents, P.O. Box 219, Bethel, AK 99559 | (907) 543-7461 | (907) 543-5759 | cofft@avcp.org.
Allakaket Village | Corinna Gray, Tribal Family Youth Specialist | P.O. Box 50, Allakaket, AK 99720 | (907) 968-2303 | (907) 968-2233 | corinna.gray@tananachiefs.org.
Allakaket Village | N/A | Tanana Chiefs Conference, Legal Department, 122 First Avenue, Suite 600, Fairbanks, AK 99701 | (907) 452-8251 Ext. 3178 | (907) 459-3953 | N/A.
Ambler, Native Village of | Hannah Wood, ICWA Coordinator | P.O. Box 47, Ambler, AK 99786 | (907) 445-2189 or (907) 445-5051 | (907) 445-2257 or (907) 445-2181 | icwa@ivisaappaat.org.
Ambler, Native Village of | Katherine Cleveland, Council ICWA | P.O. Box 47, Ambler, AK 99786 | (907) 445-2189 or (907) 445-5051 | (907) 445-2257 or (907) 445-2181 | icwa@ivisaappaat.org.
Anaktuvuk Pass Village of | Marie H. Ahsoak, Social Services Director | P.O. Box 934, Barrow, AK 99723 | (907) 852-5923 | (907) 852-5924 | social@inupiatgov.com.
Andreafski (see Yupiit of Andreafski) | N/A | N/A | N/A | N/A | N/A.
Angoon Community Association | Raynelle Jack, Tribal Administrator | P.O. Box 328, Angoon, AK 99820 | (907) 788-3411 | (907) 788-3412 | rjack.agntribe@gmail.com.
Angoon Community Association | Wally Frank, President | P.O. Box 328, Angoon, AK 99820 | (907) 788-3411 | (907) 788-3412 | N/A.
Aniak, Village of | Muriel Morgan, ICWA Worker | P.O. Box 349, Aniak, AK 99557 | (907) 675-4349 | (907) 675-4513 | aniaktribe@gmail.com.
Anvik Village | Tami Jerue, Tribal Family Youth Specialist | P.O. Box 10, Anvik, AK 99558 | (907) 663-6388 | (907) 663-6357 | N/A.
Anvik Village | N/A | Tanana Chiefs Conference, Legal Department, 122 First Avenue, Suite 600, Fairbanks, AK 99701 | (907) 452-8251 Ext. 3178 | (907) 459-3953 | N/A.
Arctic Village | Tribal Administrator | P.O. Box 22069, Arctic Village, AK 99722 | (907) 587-5523 | (907) 587-5128 | N/A.
Arctic Village | N/A | Tanana Chiefs Conference, Legal Department, 122 First Avenue, Suite 600, Fairbanks, AK 99701 | (907) 452-8251 Ext. 3178 | (907) 459-3953 | N/A.
Asa'carsarmiut Tribe (formerly Native Village of Mountain Village) | Evelyn Peterson, Directors of Social Services & Education | P.O. Box 32107, Mountain Village, AK 99632 | (907) 591-2428 | (907) 591-2934 | atcicwa@gci.net
Asa'carsarmiut Tribe (formerly Native Village of Mountain Village) | Daphne Joe, Directors of Social Services & Education | P.O. Box 32107, Mountain Village, AK 99632 | (907) 591-2428 | (907) 591-2934 | atcicwa@gci.net.
Atka, Native Village of | Ozzy E. Escarate, ICWA Representative | Aleutian/Pribilof Islands Association, 1131 East International Airport Road, Anchorage, AK 99518-1408 | (907) 276-2700 | (907) 222-9735 | icwa@apiai.org.
Atmautluak, Village of | Alexie Earl Brown, ICWA Worker | P.O. Box 6568, Atmautluak, AK 99559 | (907) 553-5610 or (907) 553-5613 | (907) 553-5150 | atmautluaktc@gmail.com.
Atmautluak, Village of | Daniel Waska, Tribal Administrator | P.O. Box 6568, Atmautluak, AK 99559 | (907) 553-5610 or (907) 553-5613 | (907) 553-5150 | atmautluaktc@gmail.com.
Atqasuk Village | N/A | P.O. Box 91108, Atqasuk, AK 99791 | (907) 633-2575 | (907) 633-2576 | N/A.
Atqasuk Village | Maude Hopson, Community & Social Services Division Manager | Arctic Slope Native Association, P.O. Box 29, Barrow, AK 99723 | (907) 852-9374 | (907) 852-9152 | maude.hopson@arcticslope.org.
Barrow Inupiat Traditional Government | Marjorie Solomon, Social Services Director | P.O. Box 1130 Barrow, AK 99723 | (907) 852-4411 | (907) 852-4413 | marjorie.solomon@nvbarrow.net.
Beaver Village | Arlene Pitka, Tribal Family Youth Specialist | P.O. Box 24029, Beaver, AK 99724 | (907) 628-6126 | (907) 628-6185 | N/A.
Beaver Village | N/A | Tanana Chiefs Conference, Legal Department, 122 First Avenue, Suite 600, Fairbanks, AK 99701 | (907) 452-8251 Ext. 3178 | (907) 459-3953 | N/A.
Belkofski Native Village of | Ozzy E. Escarate, ICWA Representative | Aleutian/Pribilof Islands Association, 1131 East International Airport Road, Anchorage, AK 99518-1408 | (907) 276-2700 | (907) 222-9735 | icwa@apiai.org.
Bethel (see Orutsararmuit Native Council) | N/A | N/A | N/A | N/A | N/A.
Bettles Field (see Evansville Village) | N/A | N/A | N/A | N/A | N/A.
Bill Moore's Slough, Village of | Nancy C. Andrews, ICWA Worker | P.O. Box 20288, Kotlik, AK 99620 | (907) 899-4236; (907) 899-4232 | (907) 899-4002; (907) 899-4461 | nacnadrews123@gmail.com.
Bill Moore's Slough, Village of | Joel Okitkun, Tribal Administrator | P.O. Box 20288, Kotlik, AK 99620 | (907) 899-4236; (907) 899-4232 | (907) 899-4002; (907) 899-4461 | joelokitkun@gmail.com.
Birch Creek Tribe | Jackie Balaam, Tribal Family Youth Specialist | 3202 Shell Street, Fairbanks, AK 99701 | (907) 221-2215 | (907) 452-5063 | N/A.
Birch Creek Tribe | N/A | Tanana Chiefs Conference, Legal Department, 122 First Avenue, Suite 600, Fairbanks, AK 99701 | (907) 452-8251 Ext. 3178 | (907) 459-3953 | N/A.
Brevig Mission, Native Village of | Linda Divers, Tribal Family Coordinator | P.O. Box 85039, Brevig Mission, AK 99785 | (907) 642-3012 | (907) 642-3042 | tfc.kts@kawerak.org.
Brevig Mission, Native Village of | Traci McGarry, Program Director | Kawerak, Inc. Children & Family Services, P.O. Box 948, Nome, AK 99762 | (907) 443-4376 | (907) 443-4474 | cfsdir@kawerak.org.
Buckland, Native Village of | Glenna Parrish, ICWA Coordinator | P.O. Box 25, Buckland, AK 99727 | (907) 494-2169 | (907) 494-2192 | icwa@nunachiak.org.
Cantwell, Native Village of | Nelly Ewan, ICWA Advocate | P.O. Box H, Copper Center, AK 99573 | (907) 822-8865 or (907) 320-0048 | (907) 822-8800 | newan@crnative.org.
Central Council of the Tlingit and Haida Indian Tribes of Alaska | Barbara Dude, Child Welfare Program Specialist | 320 W. Willoughby Ave., Suite 300, Juneau, AK 99801 | (907) 463-7169 | (907) 885-0032 | icwamail@ccthita.org.
Chalkyitsik Village | Tamara Henry, Tribal Administrator | P.O. Box 57, Chalkyitsik, AK 99788 | (907) 848-8117 | (907) 848-8986 | N/A.
Chalkyitsik Village | N/A | Tanana Chiefs Conference, Legal Department, 122 First Avenue, Suite 600, Fairbanks, AK 99701 | (907) 452-8251 Ext. 3178 | (907) 459-3953 | N/A.
Cheesh-Na Tribe | Norma J. Selanoff, ICWA Representative | P.O. Box 8079, Chenega Bay, AK 99574-8079 | (907) 573-5386 | (907) 573-5020 | taaira@nativevillageofchenega.com.
Chefornak, Village of | Cecil Sanford, Tribal Administrator | P.O. Box 241, Gakona, AK 99586 | (907) 822-3503 | (907) 822-5179 | csanford@cheeshna.com.
Chefornak, Village of | Edward Kinegak, ICWA Specialist | P.O. Box 110, Chefornak, AK 99651 | (907) 867-8808 or (907) 867-8850 | (907) 867-8711 | ekinegak@avcp.org.
Chefornak, Village of | Bernadette Lewis, Tribal Administrator | P.O. Box 110, Chefornak, AK 99651 | (907) 867-8808 or (907) 867-8850 | (907) 867-8711 | N/A.
Chenega, Native Village of | Cheryl Offt, ICWA Director | Association of Village Council Presidents, P.O. Box 219, Bethel, AK 99559 | (907) 543-7461 | (907) 543-5759 | cofft@avcp.org.
Chevak Native Village | Natasia Ulroan, ICWA Worker | Box 140, Chevak, AK 99563 | (907) 858-7918 or (907) 858-7428 | (907) 858-7919 or (907) 858-7812 | nulroan@avcp.org.
Chevak Native Village | Mary Jones, Tribal Administrator | Box 140, Chevak, AK 99563 | (907) 858-7918 or (907) 858-7428 | (907) 858-7919 or (907) 858-7812 | chevaktc@gmail.com.
Chevak Native Village | Cheryl Offt, ICWA Director | Association of Village Council Presidents, P.O. Box 219, Bethel, AK 99559 | (907) 543-7461 | (907) 543-5759 | cofft@avcp.org.
Chickaloon Native Village | Penny Westing, ICWA Case Manager | P.O. Box 1105, Chickaloon, AK 99674-1105 | (907) 745-0749; (907) 745-0794 | (907) 745-0709 | penny@chickaloon.org.
Chignik Bay Tribal Council | Debbie Carlson, Administrator | Box 11, Chignik Bay, AK 99564 | (907) 749-2445 | (907) 749-2423 | cbaytc@aol.com.
Chignik Bay Tribal Council | Cynthia Nixon, Children's Services Division Manager | Bristol Bay Native Association, P.O. Box 310, 1500 Kanakanak Road, Dillingham, AK 99576 | (907) 842-4139 | (907) 842-4106 | cnixon@bbna.com.
Chignik Lagoon, Native Village of | Nancy Anderson, Case Worker | ICWA, P.O. Box 09, Chignik Lagoon, AK 99565 | (907) 444-4060 | (907) 840-2282 | chigniklagoonicwa@bbna.com.
Chignik Lagoon, Native Village of | Cynthia Nixon, Children's Services Division Manager | Bristol Bay Native Association, P.O. Box 310, 1500 Kanakanak Road, Dillingham, AK 99576 | (907) 842-4139 | (907) 842-4106 | cnixon@bbna.com.
Chignik Lake Village | Shirley Kalmakoff, Administrator | P.O. Box 33, Chignik Lake, AK 99548 | (907) 845-2212 | (907) 845-2217 | chigniklakevillagecouncil@gmail.com.
Chignik Lake Village | Cynthia Nixon, Children's Services Division Manager | Bristol Bay Native Association, P.O. Box 310, 1500 Kanakanak Road, Dillingham, AK 99576 | (907) 842-4139 | (907) 842-4106 | cnixon@bbna.com.
Chilkat Indian Village | Carrie-Ann Durr, ICWA Caseworker | HC 60 Box 2207, Haines, AK 99827 | (907) 767-5505 Ext. 228 | (907) 767-5408 | cdurr@chilkat-nsn.gov.
Chilkoot Indian Association | Stella Howard, Family Caseworker II | P.O. Box 624, Haines, AK 99827 | (907) 766-2323 Ext. 111 | (907) 766-2845 | showard@ccthita.org.
Chinik Eskimo Community (aka Golovin) | Kirstie Lone, Tribal Family Coordinator | P.O. Box 62019, Golovin, AK 99762 | (907) 779-3489 | (907) 779-2000 | tfc.glv@kawerak.org.
Chinik Eskimo Community (aka Golovin) | Traci McGarry, Program Director | Kawerak, Inc. Children & Family Services, P.O. Box 948, Nome, AK 99762 | (907) 443-4376 | (907) 443-4474 | cfsdir@kawerak.org.
Chistochina (see Cheesh-na Tribe) | N/A | N/A | N/A | N/A | N/A.
Chitina, Native Village of | Tribal President and Tribal Administrator | P.O. Box 31, Chitina, AK 99566 | (907) 823-2215 | (907) 823-2233 | N/A.
Chuathbaluk Native Village of | Teresa Simeon-Hunter, ICWA Worker | Box CHU, Chuathbaluk, AK 99557 | (907) 467-4313 | (907) 467-4113 | ctc.teresahunter@gmail.com.
Chuathbaluk Native Village of | Tracy Simeon, Tribal Administrator | Box CHU, Chuathbaluk, AK 99557 | (907) 467-4313 | (907) 467-4113 | chuathbaluktradcouncil@gmail.com.
Chuathbaluk Native Village of | Cheryl Offt, ICWA Director | Association of Village Council Presidents, P.O. Box 219, Bethel, AK 99559 | (907) 543-7461 | (907) 543-5759 | cofft@avcp.org.
Chuloonawick Native Village | Tribal Administrator | P.O. Box 245, Emmonak, AK 99581 | (907) 949-1345 | (907) 949-1346 | N/A.
Circle Native Community | Jessica Boyle, Tribal Family Youth Specialist | P.O. Box 89, Circle, AK 99733 | (907) 773-2822 | (907) 773-2823 | Jessica.boyle@tananachiefs.org.
Circle Native Community | N/A | Tanana Chiefs Conference, Legal Department, 122 First Avenue, Suite 600, Fairbanks, AK 99701 | (907) 452-8251 Ext. 3178 | (907) 459-3953 | N/A.
Clarks Point, Village of | Nadine Wassily, Administrator | P.O. Box 9, Clarks Point, AK 99569 | (907) 236-1427 | (907) 236-1428 | clarkspointadmin@bbna.com.
Clarks Point, Village of | Cynthia Nixon, Children's Services Division Manager | Bristol Bay Native Association, P.O. Box 310, 1500 Kanakanak Road, Dillingham, AK 99576 | (907) 842-4139 | (907) 842-4106 | cnixon@bbna.com.
Copper Center (see Native Village of Kluti-Kaah) | N/A | N/A | N/A | N/A | N/A.
Cordova (see Eyak) | N/A | N/A | N/A | N/A | N/A.
Council, Native Village of | Rhonda Hanebuth, ICWA Coordinator | P.O. Box 986, Nome, AK 99762 | (907) 443-7649 | (907) 443-5965 | N/A.
Craig Tribal Association | Roberta Patten, Family Caseworker I | P.O. Box 746, Craig, AK 99921 | (907) 826-3948 | (907) 826-5526 | rpatten@ccthita.org.
Craig Tribal Association | Barbara Dude, Child Welfare Program Specialist | Central Council of the Tlingit and Haida Indian Tribes of Alaska, 320 W. Willoughby Ave., Suite 300, Juneau, AK 99801 | (907) 463-7169 | (907) 885-0032 | icwamail@ccthita.org.
Crooked Creek, Native Village of | Helen Macar, ICWA Worker and Tribal Administrator | P.O. Box 69, Crooked Creek, AK 99575 | (907) 432-2200 | (907) 432-2201 | bbcc@starband.net.
Curyung Tribal Council, (formerly the Native Village of Dillingham) | Deanna Baier, Case Worker | ICWA, P.O. Box 216, Dillingham, AK 99576 | (907) 842-4508 | (907) 842-4510 | dillinghamicwa@bbna.com.
Curyung Tribal Council, (formerly the Native Village of Dillingham) | Cynthia Nixon, Children's Services Division Manager | Bristol Bay Native Association, P.O. Box 310, 1500 Kanakanak Road, Dillingham, AK 99576 | (907) 842-4139 | (907) 842-4106 | cnixon@bbna.com.
Deering, Native Village of | Pearl Moto, ICWA Coordinator | P.O. Box 36089, Deering, AK 99736 | (907) 363-2138 | (907) 363-2195 | drgicwa@gmail.com.
Deering, Native Village of | Delores Iyatunguk, Administrator | P.O. Box 36089, Deering, AK 99736 | (907) 363-2138 | (907) 363-2195 | Tribaladmin@ipnatchiaq.org.
Deering, Native Village of | N/A | Maniilaq Association, Family Services, P.O. Box 256, Kotzebue, AK 99752 | (907) 442-7870 | N/A | N/A.
Dillingham (see Curyung Tribal Council) | N/A | N/A | N/A | N/A | N/A.
Diomede (aka Inalik) Native Village of | Florence Kuzuguk, Tribal Family Coordinator | P.O. Box 948, Nome, AK 99762 | (907) 443-4261 | (907) 443-4601 | tfc.dio@kawerak.org.
Diomede (aka Inalik) Native Village of | Traci McGarry, Program Director | Kawerak, Inc. Children & Family Services, P.O. Box 948, Nome, AK 99762 | (907) 443-4376 | (907) 443-4474 | cfsdir@kawerak.org.
Dot Lake, Village of | Clara Perdue, ICWA Worker | P.O. Box 2279, Dot Lake, AK 99737 | (907) 882-5555 | (907) 882-5558 | clara.perdue@dlvc@gmail.com.
Dot Lake, Village of | N/A | Tanana Chiefs Conference, Legal Department, 122 First Avenue, Suite 600, Fairbanks, AK 99701 | (907) 452-8251 Ext. 3178 | (907) 459-3953 | N/A.
Douglas Indian Association | Loretta (Betty) Marvin, Family Caseworker | 811 West 12th Street, Juneau, AK 99801 | (907) 364-2983 or (907) 364-2916 | (907) 364-2917 | bmarvin-dia@gci.net.
Eagle, Native Village of | Claire Ashley, Tribal Family Youth Specialist | P.O. Box 19, Eagle, AK 99738 | (907) 547-2271 | (907) 547-2318 | Claire.ashley@tananachiefs.org.
Eagle, Native Village of | N/A | Tanana Chiefs Conference, Legal Department, 122 First Avenue, Suite 600, Fairbanks, AK 99701 | (907) 452-8251 Ext. 3178 | (907) 459-3953 | N/A.
Edzeno (see Nikolai Village) | N/A | N/A | N/A | N/A | N/A.
Eek, Native Village of | Lillian Cleveland, ICWA Worker | Box 89, Eek, AK 99578 | (907) 536-5572 or (907) 563-5128 | (907) 536-5582 or (907) 536-5711 | lcleveland@avcp.org.
Eek, Native Village of | Nick Carter, Tribal Administrator | Box 89, Eek, AK 99578 | (907) 536-5572 or (907) 563-5128 | (907) 536-5582 or (907) 536-5711 | N/A.
Eek, Native Village of | Cheryl Offt, ICWA Director | Association of Village Council Presidents, P.O. Box 219, Bethel, AK 99559 | (907) 543-7461 | (907) 543-5759 | cofft@avcp.org.
Egegik Village | Marcia Abalama, Case Worker | ICWA, P.O. Box 154, Egegik, AK 99579 | (907) 233-2207 | (907) 233-2312 | egegikicwa@bbna.com.
Egegik Village | Cynthia Nixon, Children's Services Division Manager | Bristol Bay Native Association, P.O. Box 310, 1500 Kanakanak Road, Dillingham, AK 99576 | (907) 842-4139 | (907) 842-4106 | cnixon@bbna.com.
Eklutna, Native Village of | Jamison M. Cole, ICWA Worker, Social Services Director | P.O. Box 670666, Chugiak, AK 99567 | (907) 688-1808 or Cell: (907) 242-6980 | (907) 688-6032 | nve.icwa@eklutna-nsn.gov; nve.socialservice@eklutna-nsn.gov.
Ekuk Native Village of | Diane Folsom, Administrator | P.O. Box 530, Dillingham, AK 99576 | (907) 842-3842 | (907) 842-3843 | ekukadmin@bbna.com.
Ekuk Native Village of | Cynthia Nixon, Children's Services Division Manager | Bristol Bay Native Association, P.O. Box 310, 1500 Kanakanak Road, Dillingham, AK 99576 | (907) 842-4139 | (907) 842-4106 | cnixon@bbna.com.
Ekwok, Native Village of | Richard King, Administrator | P.O. Box 70, Ekwok, AK 99580 | (907) 464-3336 | (907) 464-3378 | ekwokadmin@bbna.com.
Ekwok, Native Village of | Cynthia Nixon, Children's Services Division Manager | Bristol Bay Native Association, P.O. Box 310, 1500 Kanakanak Road, Dillingham, AK 99576 | (907) 842-4139 | (907) 842-4106 | cnixon@bbna.com.
Elim, Native Village of | Joseph Murray, Tribal Family Coordinator | P.O. Box 70, Elim, AK 99739 | (907) 890-2457 | (907) 890-2458 | tfc.eli@kawerak.org.
Elim, Native Village of | Traci McGarry, Program Director | Kawerak, Inc. Children & Family Services, P.O. Box 948, Nome, AK 99762 | (907) 443-4376 | (907) 443-4474 | cfsdir@kawerak.org.
Emmonak Village | Priscilla S. Kameroff, ICWA Coordinator, Tribal Administrator | P.O. Box 126, Emmonak, AK 99581 | (907) 949-1720 or (907) 949-1820 | (907) 949-1384 | icwa@hughes.net.
English Bay (see Native Village of Nanwalek) | N/A | N/A | N/A | N/A | N/A.
Evansville Village (aka Bettles Field) | Naomi Costello, Tribal Administrator | P.O. Box 26087, Bettles Field, AK 99726 | (907) 692-5005 | (907) 692-5006 | evanvillealaska@gmail.com.
Evansville Village (aka Bettles Field) | N/A | Tanana Chiefs Conference, Legal Department, 122 First Avenue, Suite 600, Fairbanks, AK 99701 | (907) 452-8251 Ext. 3178 | (907) 459-3953 | N/A.
Eyak, Native Village, (Cordova) | Erin Kurz, ICWA Coordinator | P.O. Box 1388, Cordova, AK 99574 | (907) 424-7738 | (907) 424-7809 | Erin.Kurz@eyak-nsn.gov.
False Pass Native Village of | Ozzy E. Escarate, ICWA Representative | Aleutian/Pribilof Islands Association, 1131 East International Airport Road, Anchorage, AK 99518-1408 | (907) 276-2700 | (907) 222-9735 | icwa@apiai.org.
Fort Yukon, Native Village (See Gwichyaa Zhee Gwich'in) | N/A | N/A | N/A | N/A | N/A.
Fortuna Ledge (see Native Village of Marshall) | N/A | N/A | N/A | N/A | N/A.
Gakona, Native Village of | Charlene Nollner, Tribal Administrator | P.O. Box 102, Gakona, AK 99586 | (907) 822-5777 | (907) 822-5997 | gakonaadmin@cvinternet.net.
Galena Village (aka Louden Village) | Tribal Administrator | P.O. Box 244, Galena, AK 99741 | (907) 656-1711 | (907) 656-2491 | N/A.
Gambell, Native Village of | Susan Apassinggok, ICWA Coordinator | P.O. Box 90, Gambell, AK 99742 | (907) 985-5346 Ext. 4 | (907) 985-5014 | aaka77@gmail.com.
Georgetown, Native Village of | Will Hartman, Tribal Administrator | 5313 Arctic Blvd., Suite 104, Anchorage, AK 99518 | (907) 274-2195 | (907) 274-2196 | gtc@gci.net.
Golovin (see Chinik Eskimo Community) | N/A | N/A | N/A | N/A | N/A.
Goodnews Bay, Native Village of | Pauline Echuk, ICWA Worker | P.O. Box 138, Goodnews Bay, AK 99589 | (907) 967-8929 | (907) 967-8330 | pechuck@avcp.org.
Goodnews Bay, Native Village of | Peter Julius, Tribal Administrator | P.O. Box 138, Goodnews Bay, AK 99589 | (907) 967-8929 | (907) 967-8330 | Goodnews907@gmail.com.
Goodnews Bay, Native Village of | Cheryl Offt, ICWA Director | Association of Village Council Presidents, P.O. Box 219, Bethel, AK 99559 | (907) 543-7461 | (907) 543-5759 | cofft@avcp.org.
Grayling (see Organized Village of Grayling) | N/A | N/A | N/A | N/A | N/A.
Gulkana Village | Rachel S. Foil, Family Services Specialist | P.O. Box 254, Gakona, AK 99586 | (907) 822-5363 | (907) 822-3976 | icwa@gulkanacouncil.org.
Gwichyaa Zhee Gwich'in (formerly Native Village of Fort Yukon) | Arlene Peter, Tribal Family Youth Specialist | P.O. Box 10, Fort Yukon, AK 99740 | (907) 662-3625 | (907) 662-3118 | arlene.peter@fortyukon.org.
Gwichyaa Zhee Gwich'in (formerly Native Village of Fort Yukon) | N/A | Tanana Chiefs Conference, Legal Department, 122 First Avenue, Suite 600, Fairbanks, AK 99701 | (907) 452-8251 Ext. 3178 | (907) 459-3953 | N/A.
Haines (see Chilkoot Indian Association) | N/A | N/A | N/A | N/A | N/A.
Hamilton Native Village of | Della Hunt, ICWA Worker | P.O. Box 20248, Hamilton, AK 99620 | (907) 899-4252 | (907) 899-4202 | N/A.
Hamilton Native Village of | Irene Williams, Tribal Administrator | P.O. Box 20248, Hamilton, AK 99620 | (907) 899-4252 | (907) 899-4202 | N/A.
Hamilton Native Village of | Cheryl Offt, ICWA Director | Association of Village Council Presidents, P.O. Box 219, Bethel, AK 99559 | (907) 543-7461 | (907) 543-5759 | cofft@avcp.org.
Healy Lake Village | Tribal Administrator | P.O. Box 60300, Healy Lake, AK 99706 | (907) 876-5018 | (907) 876-5013 | N/A.
Healy Lake Village | N/A | Tanana Chiefs Conference, Legal Department, 122 First Avenue, Suite 600, Fairbanks, AK 99701 | (907) 452-8251 Ext. 3178 | (907) 459-3953 | N/A.
Holikachuk (see Grayling) | N/A | N/A | N/A | N/A | N/A.
Holy Cross Village | Rebecca Demientieff, Tribal Family Youth Specialist | P.O. Box 191, Holy Cross, AK 99602 | (907) 476-7249 | (907) 476-7132 | rebecca.demientieff@tananachiefs.org.
Holy Cross Village | N/A | Tanana Chiefs Conference, Legal Department, 122 First Avenue, Suite 600, Fairbanks, AK 99701 | (907) 452-8251 Ext. 3178 | (907) 459-3953 | N/A.
Hoonah Indian Association | Candy Keown, Human Services Department Director | P.O. Box 602 Hoonah, AK 99829 | (907) 945-3545 | (907) 945-3703 | ckeown@hiatribe.org.
Hooper Bay, Native Village | Teresa Long, ICWA Worker | Box 69, Hooper Bay, AK 99604 | (907) 758-4006 or (907) 758-4915 | (907) 758-4606 or (907) 758-4066 | tvlong@avcp.org.
Hooper Bay, Native Village | Fred Joseph Jr., Tribal Administrator | Box 69, Hooper Bay, AK 99604 | (907) 758-4006 or (907) 758-4915 | (907) 758-4606 or (907) 758-4066 | N/A.
Hooper Bay, Native Village | Cheryl Offt, ICWA Director | Association of Village Council Presidents, P.O. Box 219, Bethel, AK 99559 | (907) 543-7461 | (907) 543-5759 | cofft@avcp.org.
Hughes Village | Ella Sam, Tribal Family Youth Specialist | P.O. Box 45029 Hughes, AK 99745 | (907) 889-2260 | (907) 889-2252 | ella.sam@tananachiefs.org.
Hughes Village | N/A | Tanana Chiefs Conference, Legal Department, 122 First Avenue, Suite 600, Fairbanks, AK 99701 | (907) 452-8251 Ext. 3178 | (907) 459-3953 | N/A.
Huslia Village | Cesa Agnes, Tribal Family Youth Specialist | P.O. Box 70, Huslia, AK 99746 | (907) 829-2202 | (907) 829-2214 | cesa.agnes@tananachiefs.org.
Huslia Village | N/A | Tanana Chiefs Conference, Legal Department, 122 First Avenue, Suite 600, Fairbanks, AK 99701 | (907) 452-8251 Ext. 3178 | (907) 459-3953 | N/A.
Hydaburg Cooperative Association | Colleen Kashevarof, Human Services Director | P.O. Box 349, Hydaburg, AK 99922 | (907) 285-3662 | (907) 285-3541 | Hcahumanservices@gmail.com.
Igiugig Village | Tanya Salmon, ICWA Worker | P.O. Box 4008, Igiugig, AK 99613 | (907) 533-3211 | (907) 533-3217 | tanya.jo.salmon@gmail.com or iguigig.vc@gmail.com.
Iliamna, Village of | Louise Anelon, ICWA Worker | P.O. Box 286, Iliamna, AK 99606 | (907) 571-1246 | (907) 571-3539 | louise.anelon@iliamnavc.org.
Inupiat Community of the Arctic Slope | Marie H. Ahsoak, Social Services Director | P.O. Box 934, Barrow, AK 99723 | (907) 852-5923 | (907) 852-5924 | social@inupiatgov.com.
Iqurmuit Traditional Council (aka Russian Mission) | Katie Nick, ICWA Worker | P.O. Box 09, Russian Mission, AK 99657 | (907) 584-5594 or (907) 584-5511 | (907) 584-5596 or (907) 584-5593 | knick@avcp.org.
Iqurmuit Traditional Council (aka Russian Mission) | Anita Wigley, Tribal Administrator | P.O. Box 09, Russian Mission, AK 99657 | (907) 584-5594 or (907) 584-5511 | (907) 584-5596 or (907) 584-5593 | N/A.
Iqurmuit Traditional Council (aka Russian Mission) | Cheryl Offt, ICWA Director | Association of Village Council Presidents, P.O. Box 219, Bethel, AK 99559 | (907) 543-7461 | (907) 543-5759 | cofft@avcp.org.
Ivanoff Bay, Village of | Nicole Cabrera, Administrator | 7926 Old Seward Hwy, Suite B-5, Anchorage, AK 99518 | (907) 522-2263 | (907) 522-2363 | ivanoffbayadmin@bbna.com.
Ivanoff Bay, Village of | Cynthia Nixon, Children's Services Division Manager | Bristol Bay Native Association, P.O. Box 310, 1500 Kanakanak Road, Dillingham, AK 99576 | (907) 842-4139 | (907) 842-4106 | cnixon@bbna.com.
Kaguyak Village | Phyllis Amodo, Tribal President | P.O. Box 5078, Akhiok, AK 99615 | (907) 836-2231 | (907) 836-2345 | N/A.
Kake (see Organized Village of Kake) | N/A | N/A | N/A | N/A | N/A.
Kaktovik Village of, (aka Barter Island) | N/A | P.O. Box 52, Kaktovik, AK 99747 | (907) 640-2042 | (907) 640-2044 | N/A.
Kaktovik Village of, (aka Barter Island) | Maude Hopson, Community & Social Services Division Manager | Arctic Slope Native Association, P.O. Box 29, Barrow, AK 99723 | (907) 852-9374 | (907) 852-9152 | maude.hopson@arcticslope.org.
Kalskag, Village of, (aka Upper Kalskag) | Bonnie Persson, Tribal Administrator | P.O. Box 50, Kalskag, AK 99607 | (907) 471-2296 or (907) 471-2207 | (907) 471-2399 | N/A.
Kalskag, Village of, (aka Upper Kalskag) | Cheryl Offt, ICWA Director | Association of Village Council Presidents, P.O. Box 219, Bethel, AK 99559 | (907) 543-7461 | (907) 543-5759 | cofft@avcp.org.
Kaltag, Village of | N/A | N/A | N/A | N/A | N/A.
Kaltag, Village of | Ann Neglaska, Tribal Family Youth Specialist | P.O. Box 129, Kaltag, AK 99748 | (907) 534-2243 | (907) 534-2264 | ann.neglaska@tananachiefs.org.
Kanatak, Native Village | N/A | Tanana Chiefs Conference, Legal Department, 122 First Avenue, Suite 600, Fairbanks, AK 99701 | (907) 452-8251 Ext. 3178 | (907) 459-3953 | N/A.
Kanatak, Native Village | Shawn Shanigan, Administrator | P.O. Box 876822, Wasilla, AK 99687 | (907) 315-3878 | (907) 357-5992 | kanatak@mtaonline.net.
Karluk, Native Village of | Cynthia Nixon, Children's Services Division Manager | Bristol Bay Native Association, P.O. Box 310, 1500 Kanakanak Road, Dillingham, AK 99576 | (907) 842-4139 | (907) 842-4106 | cnixon@bbna.com.
Kashnumiut Tribe (see Chevak) | Alicia Andrew, Administrator | P.O. Box 22, Karluk, AK 99608 | (907) 241-2218 | (907) 241-2208 | karlukiracouncil@aol.com.
Kasigluk Traditional Elders Council | N/A | N/A | N/A | N/A | N/A.
Kassan (see Organized Village of Kasaan) | N/A | N/A | N/A | N/A | N/A.
Kenaitze Indian Tribe | Nora O. Brink, ICWA Family Specialist | P.O. Box 19, Kasigluk, AK 99609 | (907) 477-6418 | (907) 477-6416 | kasiglukicwa996@gmail.com.
Kenaitze Indian Tribe | Kalyn Simpson, ICWA Tribal Representative | P.O. Box 988, Kenai, AK 99611 | (907) 335-7200 | (907) 335-7236 | ksimpson@kenaitze.org.
Ketchikan Indian Corporation | Rebecca Strong, ICWA Tribal Representative | P.O. Box 988, Kenai, AK 99611 | (907) 335-7200 | (907) 335-7236 | rstrong@kenaitze.org.
Kiana, Native Village of | Misty Archibald, ICWA Tribal Representative | 615 Stedman St., Suite 201, Ketchikan, AK 99901 | (907) 228-9294 | (800) 590-3277 | marchibald@kictribe.org.
Kiana, Native Village of | Kayla Pete, ICWA Coordinator | P.O. Box 69, Kiana, AK 99749 | (907) 475-2226 or (907) 475-2109 | (907) 475-2266 or (907) 475-2180 | icwa@katyaaq.org.
King Cove (see Agdaagux) | Dale B. Stotts, Tribe Director | P.O. Box 69, Kiana, AK 99749 | (907) 475-2226 or (907) 475-2109 | (907) 475-2266 or (907) 475-2180 | tribedirector@katyaaq.org.
King Island Native Community | N/A | N/A | N/A | N/A | N/A.
King Island Native Community | Heather Payenna, Tribal Family Coordinator/Supervisor | P.O. Box 682, Nome, AK 99762 | (907) 443-5181 | (907) 443-8049 | tfc.ki@kawerak.org.
King Salmon Tribe | Traci McGarry, Program Director | Kawerak, Inc. Children & Family Services, P.O. Box 948, Nome, AK 99762 | (907) 443-4376 | (907) 443-4474 | cfsdir@kawerak.org.
Kipnuk Native Village of | Tribal Administrator | P.O. Box 68, King Salmon, AK 99613 | (907) 246-3553 or (907) 246-3447 | (907) 246-3449 | N/A.
Kipnuk Native Village of | Helen Paul, ICWA Worker | P.O. Box 57, Kipnuk, AK 99614 | (907) 896-5430 or (907) 869-5515 | (907) 896-5704 or (907) 869-5240 | hpaul@avcp.org.
Kipnuk Native Village of | Raul Dock, Tribal Administrator | P.O. Box 57, Kipnuk, AK 99614 | (907) 896-5430 or (907) 869-5515 | (907) 896-5704 or (907) 869-5240 | N/A.
Kivalina, Native Village of | Cheryl Offt, ICWA Director | Association of Village Council Presidents, P.O. Box 219, Bethel, AK 99559 | (907) 543-7461 | (907) 543-5759 | cofft@avcp.org.
Kivalina, Native Village of | Stanley Hawley, Administrator | P.O. Box 51, Kivalina, AK 99750 | (907) 645-2153 or (907) 645-2227 | (907) 645-2193 | tribeadmin@kivaliniq.org.
Kivalina, Native Village of | Millie Hawley, President | P.O. Box 51, Kivalina, AK 99750 | (907) 645-2153 or (907) 645-2227 | (907) 645-2193 | millie.hawley@maniilaq.org.
Klawock Cooperative Association | N/A | Maniilaq Association, Family Services, P.O. Box 256, Kotzebue, AK 99752 | (907) 442-7870 | N/A | N/A.
Klukwan (see Chilkat Indian Village) | Cynthia Mills, Family Caseworker II | P.O. Box 173, Klawock, AK 99925 | (907) 755-2326 | (907) 755-2647 | cmills@ccthita.org.
Kluti-Kaah, Native Village of, (aka Copper Center) | N/A | N/A | N/A | N/A | N/A.
Knik Tribe | Nelly Ewan, ICWA Advocate | P.O. Box H, Copper Center, AK 99573 | (907) 822-8865 or (907) 320-0048 | (907) 822-8800 | newan@crnative.org.
Kobuk, Native Village of | Geraldine Nicoli, ICWA Worker | P.O. Box 871565, Wasilla, AK 99687 | (907) 373-7938 | (907) 373-2153 | gnicoli@kniktribe.org.
Kobuk, Native Village of | Tribal Administrator | P.O. Box 39, Kobuk, AK 99751 | (907) 948-2007 or (907) 442-7879 | (907) 948-2123 | tribeadmin@laugvik.org.
Kodiak Native Village of (see Sun'aq Tribe of Kodiak) | N/A | Maniilaq Association, Family Services, P.O. Box 256, Kotzebue, AK 99752 | (907) 442-7870 | N/A | N/A.
Kokhanok Village | N/A | N/A | N/A | N/A | N/A.
Kokhanok Village | Mary Andrew, Caseworker | ICWA, P.O. Box 1007, Kokhanok, AK 99606 | (907) 282-2224 | (907) 282-2221 | kokhanokicwa@bbna.com.
Koliganek Village (see New Kolignanek) | Cynthia Nixon, Children's Services Division Manager | Bristol Bay Native Association, P.O. Box 310, 1500 Kanakanak Road, Dillingham, AK 99576 | (907) 842-4139 | (907) 842-4106 | cnixon@bbna.com.
Kongiganak Traditional Council | N/A | N/A | N/A | N/A | N/A.
Kongiganak Traditional Council | Janet Otto, ICWA Worker | P.O. Box 5069, Kongiganak, AK 99545 | (907) 557-5311 or (907) 557-5226 | (907) 557-5348 or (907) 557-5224 | kong.tribe@gmail.com.
Kongiganak Traditional Council | Roland Andrew, Tribal Administrator | P.O. Box 5069, Kongiganak, AK 99545 | (907) 557-5311 or (907) 557-5226 | (907) 557-5348 or (907) 557-5224 | kong.tribe@gmail.com.
Kotlik, Village of | Cheryl Offt, ICWA Director | Association of Village Council Presidents, P.O. Box 219, Bethel, AK 99559 | (907) 543-7461 | (907) 543-5759 | cofft@avcp.org.
Kotlik, Village of | Emma Mathis, ICWA Worker | P.O. Box 20210, Kotlik, AK 99620 | (907) 899-4459 or (907) 899-4326 | (907) 899-4467 or (907) 899-4790 | N/A.
Kotlik, Village of | Rose Cheemuk, President | P.O. Box 20210, Kotlik, AK 99620 | (907) 899-4459 or (907) 899-4326 | (907) 899-4467 or (907) 899-4790 | N/A.
Kotzebue, Native Village of | Cheryl Offt, ICWA Director | Association of Village Council Presidents, P.O. Box 219, Bethel, AK 99559 | (907) 543-7461 | (907) 543-5759 | cofft@avcp.org.
Koyuk, Native Village of | Louise Conwell, Tribal Family Services | P.O. Box 296, Kotzebue, AK 99752 | (907) 442-3467 | (907) 442-4013 or (907) 442-2162 | louise.conwell@qira.org.
Koyuk, Native Village of | Leo Charles Sr., Tribal Family Coordinator | P.O. Box 53149, Koyuk, AK 99753 | (907) 963-2215 | (907) 963-2300 | N/A.
Koyukuk, Native Village of | Traci McGarry, Program Director | Kawerak, Inc. Children & Family Services, P.O. Box 948, Nome, AK 99762 | (907) 443-4376 | (907) 443-4474 | cfsdir@kawerak.org.
Koyukuk, Native Village of | Euphrasia Dayton-Demoski, Tribal Family Youth Specialist | P.O. Box 109, Koyukuk, AK 99754 | (907) 927-2208 | (907) 927-2220 | euphrasia.daytondemoski@tananachiefs.org.
Kwethluk (see Organized Village of Kwethluk) | N/A | Tanana Chiefs Conference, Legal Department, 122 First Avenue, Suite 600, Fairbanks, AK 99701 | (907) 452-8251 Ext. 3178 | (907) 459-3953 | N/A.
Kwigillingok, Native Village of | N/A | N/A | N/A | N/A | N/A.
Kwinhagak (aka Quinhagak), Native Village of | Andrew Beaver, Tribal Administrator | P.O. Box 90, Kwigillingok, AK 99622 | (907) 588-8114 or (907) 588-8212 | (907) 588-8429 | N/A.
Larsen Bay, Native Village of | Martha Nicolai, Health & Human Service Director, ICWA Worker | P.O. Box 149, Quinhagak, AK 99655 | (907) 556-8393 | (907) 556-8340 | m.nicolai@kwinhagak.org.
Lesnoi Village (see Tangirnaq aka Woody Island) | Hannah Gordon, ICWA Specialist | Kodiak Area Native Association, 3449 Rezanof Drive East, Kodiak, AK 99615 | (907) 486-1370 | (907) 486-4829 | hannah.gordon@kanaweb.org; ICWA@kanaweb.org.
Levelock Village | Robert Stauffer | 194 Alimaq Dr., Kodiak, AK 99615 | (907) 486-9806 | N/A | N/A.
Levelock Village | Rhea Andrew, Case Worker | ICWA, P.O. Box 70, Levelock, AK 99625 | (907) 287-3023 | (907) 287-3069 | levelockicwa@bbna.com.
Lime Village | Cynthia Nixon, Children's Services Division Manager | Bristol Bay Native Association, P.O. Box 310, 1500 Kanakanak Road, Dillingham, AK 99576 | (907) 842-4139 | (907) 842-4106 | cnixon@bbna.com.
Lime Village | Jennifer John, Tribal President | P.O. Box LVD—Lime Village, McGrath, AK 99627 | (907) 526-5236 | (907) 526-5235 | limevillage@gmail.com.
Louden (see Galena) | Cheryl Offt, ICWA Director | Association of Village Council Presidents, P.O. Box 219, Bethel, AK 99559 | (907) 543-7461 | (907) 543-5759 | cofft@avcp.org.
Lower Kalskag (See Lower Kalskag) | N/A | N/A | N/A | N/A | N/A.
Lower Kalskag, Village of | Nastasia Evan, ICWA Worker | P.O. Box 27, Lower Kalskag, AK 99626 | (907) 471-2412 or (907) 471-2300 | (907) 471-2378 or (907) 471-2378 | nevan@avcp.org.
Lower Kalskag, Village of | Natasia Levi, Tribal Administrator | P.O. Box 27, Lower Kalskag, AK 99626 | (907) 471-2412 or (907) 471-2300 | (907) 471-2378 or (907) 471-2378 | lowerklgta@gmail.com.
Lower Kalskag, Village of | Cheryl Offt, ICWA Director | Association of Village Council Presidents, P.O. Box 219, Bethel, AK 99559 | (907) 543-7461 | (907) 543-5759 | cofft@avcp.org.
Manley Hot Springs Village | Elizabeth Woods, Tribal Family Youth Specialist | P.O. Box 105, Manley Hot Springs, AK 99756 | (907) 672-3177 | (907) 672-3200 | N/A.
Manley Hot Springs Village | N/A | Tanana Chiefs Conference, Legal Department, 122 First Avenue, Suite 600, Fairbanks, AK 99701 | (907) 452-8251 Ext. 3178 | (907) 459-3953 | N/A.
Manokotak Village | Diana Gamechuk, Caseworker | ICWA, P.O. Box 169, Manokotak, AK 99628 | (907) 289-2074 | (907) 289-1235 | manokotakiccwa@bbna.com.
Manokotak Village | Cynthia Nixon, Children's Services Division Manager | Bristol Bay Native Association, P.O. Box 310, 1500 Kanakanak Road, Dillingham, AK 99576 | (907) 842-4139 | (907) 842-4106 | cnixon@bbna.com.
Marshall Native Village of | Robert Pitka, ICWA Worker | P.O. Box 110, Marshall, AK 99585 | (907) 679-6302/6128 | (907) 676-6187 | rpitka@avcp.org.
Marshall Native Village of | Nick Andrew Jr., Tribal Administrator | P.O. Box 110, Marshall, AK 99585 | (907) 679-6302/6128 | (907) 676-6187 | N/A.
Marshall Native Village of | Cheryl Offt, ICWA Director | Association of Village Council Presidents, P.O. Box 219, Bethel, AK 99559 | (907) 543-7461 | (907) 543-5759 | cofft@avcp.org.
Mary's Igloo, Native Village of | Dolly Kugzruk, Tribal Family Coordinator | P.O. Box 629, Teller, AK 99778 | (907) 642-2185 | (907) 642-2189/3000 | tfc.tla@kawerak.org.
Mary's Igloo, Native Village of | Traci McGarry, Program Director | Kawerak, Inc. Children & Family Services, P.O. Box 948, Nome, AK 99762 | (907) 443-4376 | (907) 443-4474 | cfsdir@kawerak.org.
McGrath Native Village | Helen Vanderpool, Tribal Family Youth Specialist | P.O. Box 134, McGrath, AK 99627 | (907) 524-3023 | (907) 524-3899 | helen.vanderpool@tananachiefs.org.
McGrath Native Village | N/A | Tanana Chiefs Conference, Legal Department, 122 First Avenue, Suite 600, Fairbanks, AK 99701 | (907) 452-8251 Ext. 3178 | (907) 459-3953 | N/A.
Mekoryuk, Native Village of | Melanie Shavings, ICWA Coordinator | P.O. Box 66, Mekoryuk, AK 99630 | Main Phone: (907) 827-8828 or ICWA Dept. Phone: (907) 827-8827 | (907) 827-8133 | melanie.s@mekoryuktc.org.
Mekoryuk, Native Village of | Luke A. Smith, Executive Director | P.O. Box 66, Mekoryuk, AK 99630 | Main Phone: (907) 827-8828 or ICWA Dept. Phone: (907) 827-8827 | (907) 827-8133 | luke.s@mekoryuktc.org.
Mentasta Traditional Council | Andrea David, ICWA Worker | P.O. Box 6019, Mentasta Lake, AK 99780 | (907) 291-2319 | (907) 291-2305 | N/A.
Mentasta Traditional Council | Joelneal Hicks, Tribal Administrator | P.O. Box 6019, Mentasta Lake, AK 99780 | (907) 291-2319 | (907) 291-2305 | N/A.
Metlakatla Indian Community | Darlene Booth, ICWA Worker | P.O. Box 8, Metlakatla, AK 99926 | (907) 886-6914 | (907) 886-6913 | N/A.
Minto, Native Village of | Lou Ann Williams, Tribal Family Youth Specialist | P.O. Box 26, Minto, AK 99758 | (907) 798-7007 | (907) 798-7008 | lou.williams@tananachiefs.org.
Minto, Native Village of | N/A | Tanana Chiefs Conference, Legal Department, 122 First Avenue, Suite 600, Fairbanks, AK 99701 | (907) 452-8251 Ext. 3178 | (907) 459-3953 | N/A.
Mountain Village: see Asa'carsarmiut | N/A | N/A | N/A | N/A | N/A.
Naknek Native Village | Judy Jo Matson, ICWA Coordinator | P.O. Box 210, Naknek, AK 99633 | (907) 246-4210 | (907) 246-3563 | nnvc.judyjo@gmail.com.
Nanwalek Native Village of | Desiree Swenning, ICWA Advocate | P.O. Box 8028, Nanwalek, AK 99603 | (907) 281-2274 | (907) 281-2252 | nanwalekicwa@gmail.com.
Napaimute Native Village | Mark Leary, Tribal Administrator | P.O. Box 1301, Bethel, AK 99559 | (907) 543-2887 |  | napaimute@gci.net.
Napaimute Native Village | Cheryl Offt, ICWA Director | Association of Village Council Presidents, P.O. Box 219, Bethel, AK 99559 | (907) 543-7461 | (907) 543-5759 | cofft@avcp.org.
Napakiak, Native Village of | Lucy Pavilla, ICWA Worker | P.O. Box 34069, Napakiak, AK 99634 | (907) 589-2815 or (907) 589-2135 | (907) 589-2814 or (907) 589-2136 | lpavilla@avcp.org.
Napakiak, Native Village of | David Andrew, Tribal Administrator | P.O. Box 34069, Napakiak, AK 99634 | (907) 589-2815 or (907) 589-2135 | (907) 589-2814 or (907) 589-2136
Napakiak, Native Village of | Cheryl Offt, ICWA Director | Association of Village Council Presidents, P.O. Box 219, Bethel, AK 99559 | (907) 543-7461 | (907) 543-5759 | cofft@avcp.org.
Napaskiak, Native Village of | Elizabeth Steven, ICWA Worker | P.O. Box 6009, Napaskiak, AK 99559 | (907) 737-7364 or (907) 737-7364 | (907) 737-7039 | esteven@avcp.org.
Napaskiak, Native Village of | Stephen Maxie Jr., Tribal Administrator | P.O. Box 6009, Napaskiak, AK 99559 | (907) 737-7364 or (907) 737-7364 | (907) 737-7039 | smaxie@avcp.org.
Napaskiak, Native Village of | Cheryl Offt, ICWA Director | Association of Village Council Presidents, P.O. Box 219, Bethel, AK 99559 | (907) 543-7461 | (907) 543-5759 | cofft@avcp.org.
Nelson Lagoon, Native Village of | Ozzy E. Escarate, ICWA Representative | Aleutian/Pribilof Islands Association, 1131 East International Airport Road, Anchorage, AK 99518-1408 | (907) 276-2700 | (907) 222-9735 | icwa@apiai.org.
Nenana Native Association | Jo Noble, Tribal Administrator | P.O. Box 369, Nenana, AK 99760 | (907) 832-5461 | (907) 832-5447 | nenanatfys@gmail.com.
Nenana Native Association | N/A | Tanana Chiefs Conference, Legal Department, 122 First Avenue, Suite 600, Fairbanks, AK 99701 | (907) 452-8251 Ext. 3178 | (907) 459-3953 | N/A.
New Koliganek Village Council | Herman Nelson Sr., President | P.O. Box 5057, Koliganek, AK 99576 | (907) 596-3434 | (907) 596-3462 | newkoliganekadmin@bbna.com.
New Koliganek Village Council | Cynthia Nixon, Children's Services Division Manager | Bristol Bay Native Association, P.O. Box 310, 1500 Kanakanak Road, Dillingham, AK 99576 | (907) 842-4139 | (907) 842-4106 | cnixon@bbna.com.
New Stuyahok Village | Faith Andrew, Case Worker | ICWA, P.O. Box 49, New Stuyahok, AK 99636 | (907) 693-3102 | (907) 693-3179 | newstuyahokicwa@bbna.com.
New Stuyahok Village | Cynthia Nixon, Children's Services Division Manager | Bristol Bay Native Association, P.O. Box 310, 1500 Kanakanak Road, Dillingham, AK 99576 | (907) 842-4139 | (907) 842-4106 | cnixon@bbna.com.
Newhalen Village | Maxine Wassillie, ICWA Worker | 100 Power Lane Drive, P.O. Box 207, Newhalen, AK 99606 | (907) 571-1410 | (907) 571-1537 | N/A.
Newhalen Village | Joanne Wassillie, Administrator | 100 Power Lane Drive, P.O. Box 207, Newhalen, AK 99606 | (907) 571-1410 | (907) 571-1537 | N/A.
Newtok Village | Stanley Tom, Tribal Administrator | P.O. Box 96, Newtok, AK 99559 | (907) 237-2314 | (907) 237-2428 | N/A.
Nightmute, Native Village of | Tribal President & Tribal Administrator | P.O. Box 90021, Nightmute, AK 99690 | (907) 647-6215 | (907) 647-6112 | N/A.
Nikolai Village (aka Edzeno) | Elizabeth Paterson, Tribal Family Youth Specialist | P.O. Box 9107, Nikolai, AK, 99691 | (907) 293-2210 | (907) 293-2216 | N/A.
Nikolai Village (aka Edzeno) | N/A | Tanana Chiefs Conference, Legal Department, 122 First Avenue, Suite 600, Fairbanks, AK 99701 | (907) 452-8251 Ext. 3178 | (907) 459-3953 | N/A.
Nikolski IRA Council | Ozzy E. Escarate, ICWA Representative | Aleutian/Pribilof Islands Association, 1131 East International Airport Road, Anchorage, AK 99518-1408 | (907) 276-2700 | (907) 222-9735 | icwa@apiai.org.
Ninilchik Village | Bettyann Steciw, ICWA Specialist | P.O. Box 39444, Ninilchik, AK 99639 | (907) 567-3313 | (907) 567-3354 | N/A.
Noatak, Native Village of | Nanna Patterson, ICWA Coordinator | P.O. Box 89, Noatak, AK 99761 | (907) 485-2173 Ext. 22 | (907) 485-2137 | icwa@nautaaq.org.
Noatak, Native Village of | Herbert Watson, Administrator | P.O. Box 89, Noatak, AK 99761 | (907) 485-2173 Ext. 22 | (907) 485-2137 | tribeadmin@nautaaq.org.
Nome Eskimo Community | Lola Stepetin, Family Services Director | 3600 San Jeronimo, Suite 138, Anchorage, AK 99508 | (907) 793-3145 | (907) 793-3127 | lstepetin@gci.net.
Nondalton Village | Susan Bobby, Social Service/ICWA Worker | P.O. Box 49, Nondalton, AK 99640 | (907) 294-2257 | (907) 294-2271 | N/A.
Nondalton Village | Fawn Silas, Administrator | P.O. Box 49, Nondalton, AK 99640 | (907) 294-2257 | (907) 294-2271 | N/A.
Noorvik Native Community | Nellie Ballot, ICWA Coordinator | P.O. Box 209, Noorvik, AK, 99763 | (907) 636-2144 | (907) 636-2284 | icwa@nuurvik.org.
Noorvik Native Community | Colleen Hoffman, Administrator | P.O. Box 209, Noorvik, AK, 99763 | (907) 636-2144 | (907) 636-2284 | tribeadmin@nuurvik.org.
Noorvik Native Community | N/A | Maniilaq Association, Family Services, P.O. Box 256, Kotzebue, AK 99752 | (907) 442-7870 | N/A | N/A.
Northway Village | Tasha Demit, ICWA Worker | P.O. Box 516, Northway, AK 99764 | (907) 778-2311 | (907) 778-2220 | N/A.
Nuiqsut, Native Village of | Maude Hopson, ICWA Coordinator | Social Services Department, Arctic Slope Native Association, Ltd., P.O. Box 1232, Barrow, AK 99723 | (907) 852-9374 | (907) 852-9152 | maude.hopson@arcticslope.org.
Nulato Native Village of | Brittany Madros, Tribal Family Youth Specialist | P.O. Box 65049, Nulato, AK 99765 | (907) 898-2329 | (907) 898-2207 | paul.moutain@tananachiefs.org.
Nunakauyarmiut Tribe (formerly Toksook Bay Native Village) | Marcella White, ICWA Worker | P.O. Box 37048, Toksook Bay, AK 99637 | (907) 427-7114/7615 | (907) 427-7714 | N/A.
Nunakauyarmiut Tribe (formerly Toksook Bay Native Village) | Tribal Administrator | P.O. Box 37048, Toksook Bay, AK 99637 | (907) 427-7114/7615 | (907) 427-7714 | N/A.
Nunam Iqua, Native Village of, (formerly Sheldon's Point) | Darlene Pete, Tribal Administrator | P.O. Box 27, Nunam Iqua, AK 99666 | (907) 498-4218 | (907) 498-4185 | nunamtribe@gmail.com.
Nunam Iqua, Native Village of, (formerly Sheldon's Point) | Cheryl Offt, ICWA Director | Association of Village Council Presidents, P.O. Box 219, Bethel, AK 99559 | (907) 543-7461 | (907) 543-5759 | cofft@avcp.org.
Nunapitchuk, Native Village of | Aldine Simon, Community Family Service Specialist | P.O. Box 104, Nunapitchuk, AK 99641 | (907) 527-5731 | (907) 527-5740 | nunap.icwa@yuik.org.
Ohagamiut, Native Village of | Anna Fitka, ICWA Worker | P.O. Box 49, Marshall, AK 99585 | (907) 679-6517 | (907) 679-6516 | afitka@avcp.org;amfitka.amf@gmail.com.
Ohagamiut, Native Village of | Sophie Tiffert, Tribal Administrator | P.O. Box 49, Marshall, AK 99585 | (907) 679-6517 | (907) 679-6516 | N/A.
Ohagamiut, Native Village of | Cheryl Offt, ICWA Director | Association of Village Council Presidents, P.O. Box 219, Bethel, AK 99559 | (907) 543-7461 | (907) 543-5759 | cofft@avcp.org.
Old Harbor Village | Bobbi Anne Barnowsky, Tribal Administrator | P.O. Box 62, Old Harbor, AK 99643 | (907) 286-2315 | (907) 286-2250 | bobbi.barnowsky@ohtcmail.org.
Organized Village of Grayling | Johanna Hamilton, Tribal Family Youth Specialist | P.O. Box 49, Grayling, AK 99590 | (907) 453-5142 | (907) 453-5146 | johannahamilton87@gmail.com.
Organized Village of Grayling | N/A | Tanana Chiefs Conference, Legal Department, 122 First Avenue, Suite 600, Fairbanks, AK 99701 | (907) 452-8251 Ext. 3178 | (907) 459-3953 | N/A.
Organized Village of Kake | Ann Jackson, Social Services Director | P.O. Box 316, Kake, AK 99830 | (907) 785-6471 | (907) 785-4902 | N/A.
Organized Village of Kasaan | Cynthia Mills, Family Caseworker II | P.O. Box 173, Klawock, AK 99925 | (907) 755-2326 | (907) 755-2647 | cmills@ccthita.org.
Organized Village of Kwethluk | Chariton Epchook, ICWA Coordinator | P.O. Box 130 Kwethluk, AK 99621-0130 | (907) 757-6714 or (907) 757-6715 | (907) 757-6328 | ovkicwa@gmail.com.
Organized Village of Saxman | Family Caseworker or Tribal Administrator | Route 2, Box 2, Ketchikan, AK 99901 | (907) 247-2502 | (907) 247-2504 | N/A.
Orutsararmuit Native Council | Rosemary Paul, ICWA Advocate | P.O. Box 927, Bethel, AK 99559 | (907) 543-2608 Ext. 1520 | (907) 543-2639 | rpaul@nativecouncil.org.
Oscarville Traditional Village | Andrew J. Larson Jr., ICWA Worker | P.O. Box 6129, Oscarville, AK 99559 | (907) 737-7100 or (907) 737-7099 | (907) 737-7101 or (907) 737-7428 | alarson@avcp.org.
Oscarville Traditional Village | Michael Stevens, Tribal Administrator | P.O. Box 6129, Oscarville, AK 99559 | (907) 737-7100 or (907) 737-7099 | (907) 737-7101 or (907) 737-7428 | mstevens@avcp.org.
Oscarville Traditional Village | Cheryl Offt, ICWA Director | Association of Village Council Presidents, P.O. Box 219, Bethel, AK 99559 | (907) 543-7461 | (907) 543-5759 | cofft@avcp.org.
Ouzinkie, Native Village of | Hannah Gordon, ICWA Coordinator | Kodiak Area Native Association, 3449 Rezanof Drive East, Kodiak, AK 99615 | (907) 486-1370 | (907) 486-4829 | hannah.gordon@kanaweb.org; ICWA@kanaweb.org.
Paimiut, Native Village of | Tribal President or Tribal Administrator | P.O. Box 230, Hooper Bay, AK 99604 | (907) 561-9878 | (907) 563-5398 | N/A.
Pauloff Harbor Village | Ozzy E. Escarate, ICWA Representative | Aleutian/Pribilof Islands Association, 1131 East International Airport Road, Anchorage, AK 99518-1408 | (907) 276-2700 | (907) 222-9735 | icwa@apiai.org.
Pedro Bay Village | Verna Kolyaha | Program Services, P.O. Box 47020, Pedro Bay, AK 99647 | (907) 850-2341 | (907) 850-2221 | vjkolyha@pedrobay.com.
Perryville, Native Village of | Bernice O'Domin, Case Worker | ICWA, P.O. Box 97, Perryville, AK 99648 | (907) 853-2242 | (907) 853-2229 | perryvilleicwa@bbna.com.
Perryville, Native Village of | Cynthia Nixon, Children's Services Division Manager | Bristol Bay Native Association, P.O. Box 310, 1500 Kanakanak Road, Dillingham, AK 99576 | (907) 842-4139 | (907) 842-4106 | cnixon@bbna.com.
Petersburg Indian Association | Jeanette Ness, ICWA Caseworker | P.O. Box 1410, Petersburg, AK 99833 | (907) 772-3636 | (907) 772-3686 | jeanetteness@piatribal.org.
Pilot Point Native Village of | Suzanne Evanoff, Administrator | P.O. Box 449, Pilot Point, AK 99649 | (907) 797-2208 | (907) 797-2258 | pilotpointadmin@bbna.com.
Pilot Point Native Village of | Cynthia Nixon, Children's Services Division Manager | Bristol Bay Native Association, P.O. Box 310, 1500 Kanakanak Road, Dillingham, AK 99576 | (907) 842-4139 | (907) 842-4106 | cnixon@bbna.com.
Pilot Station Traditional Village | Olga Xavier, ICWA Worker | P.O. Box 5119, Pilot Station, AK 99650 | (907) 549-3550 or (907) 549-3373 | (907) 549-3551 or (907) 549-3301 | oxavier@avcp.org.
Pilot Station Traditional Village | Martin Kelly, Tribal Administrator | P.O. Box 5119, Pilot Station, AK 99650 | (907) 549-3550 or (907) 549-3373 | (907) 549-3551 or (907) 549-3301 | pstccounicl@pilotstation.org.
Pilot Station Traditional Village | Cheryl Offt, ICWA Director | Association of Village Council Presidents, P.O. Box 219, Bethel, AK 99559 | (907) 543-7461 | (907) 543-5759 | cofft@avcp.org.
Pitka's Point, Native Village of | Karen Thompson, Tribal Administrator | P.O. Box 127, St. Mary's, AK 99658 | (907) 438-2833 | (907) 438-2569 | N/A.
Pitka's Point, Native Village of | Cheryl Offt, ICWA Director | Association of Village Council Presidents, P.O. Box 219, Bethel, AK 99559 | (907) 543-7461 | (907) 543-5759 | cofft@avcp.org.
Platinum Traditional Village | Lou Adams, Tribal Administrator | P.O. Box 8, Platinum, AK 99651 | (907) 979-8220 | (907) 979-8178 | N/A.
Platinum Traditional Village | Cheryl Offt, ICWA Director | Association of Village Council Presidents, P.O. Box 219, Bethel, AK 99559 | (907) 543-7461 | (907) 543-5759 | cofft@avcp.org.
Point Hope, Native Village of | Martha Douglas, Family Caseworker | P.O. Box 109, Point Hope, AK 99766 | (907) 368-2330 | (907) 368-2332 | martha.douglas@tikigaq.org.
Point Lay, Native Village of | Marie Ahsoak, Social Services Director | Inupiat Community of the Arctic Slope, P.O. Box 934, Barrow, AK 99723 | (907) 852-5923 | (907) 852-5924 | social@inupiatgov.com.
Port Graham, Native Village of | Patrick Norman, Chief | ICWA Program, P.O. Box 5510, Port Graham, AK 99603 | (907) 284-2227 | (907) 284-2222 | N/A.
Port Heiden, Native Village of, (Native Council of Port Heiden) | Tribal Children Service Worker | P.O. Box 49007, Port Heiden, AK 99549 | (907) 837-2291/2296 | (907) 837-2297 | N/A.
Port Lions, Native Village | Yvonne Mullan, Tribal Family Services Coordinator | 2006 Airport Road, P.O. Box 69, Port Lions, AK 99550 | (907) 454-2234 or (907) 454-2108 | (907) 454-2985 | Yvonne.mullen12@gmail.com.
Port Lions, Native Village | Susan Boskofsky, Tribal Administrator | 2006 Airport Road, P.O. Box 69, Port Lions, AK 99550 | (907) 454-2234 or (907) 454-2108 | (907) 454-2985 | susan.boskofsky@gmail.com.
Portage Creek Village (aka Ohgensakale) | Eva Kapotak, Caseworker | 1327 E. 72nd Ave., Unit B, Anchorage, AK 99518 | (907) 277-1105 | (907) 277-1104 | portagecreekicwa@bbna.com.
Portage Creek Village (aka Ohgensakale) | Cynthia Nixon, Children's Services Division Manager | Bristol Bay Native Association, P.O. Box 310, 1500 Kanakanak Road, Dillingham, AK 99576 | (907) 842-4139 | (907) 842-4106 | cnixon@bbna.com.
Qagan Tayaguyngin Tribe of Sand Point Village | Ozzy E. Escarate, ICWA Representative | Aleutian/Pribilof Islands Association, 1131 East International Airport Road, Anchorage, AK 99518-1408 | (907) 276-2700 | (907) 222-9735 | icwa@apiai.org.
Qawalangin Tribe of Unalaska | Ozzy E. Escarate, ICWA Representative | Aleutian/Pribilof Islands Association, 1131 East International Airport Road, Anchorage, AK 99518-1408 | (907) 276-2700 | (907) 222-9735 | icwa@apiai.org.
Qissunaimut Tribe (see Chevak) | N/A | N/A | N/A | N/A | N/A.
Quinhagak (see Kwinhagak) | N/A | N/A | N/A | N/A | N/A.
Rampart Village | N/A | P.O. Box 29 Rampart, AK 99767 | (907) 358-3312 | (907) 358-3115 | N/A.
Rampart Village | N/A | Tanana Chiefs Conference, Legal Department, 122 First Avenue, Suite 600, Fairbanks, AK 99701 | (907) 452-8251 Ext. 3178 | (907) 459-3953 | N/A.
Red Devil, Native Village of | Tribal Administrator | P.O. Box 27, Red Devil, AK 99656 | N/A | N/A | N/A.
Red Devil, Native Village of | Cheryl Offt, ICWA Director | Association of Village Council Presidents, P.O. Box 219, Bethel, AK 99559 | (907) 543-7461 | (907) 543-5759 | cofft@avcp.org.
Ruby, Native Village of | Elaine Wright, Tribal Family Youth Specialist | P.O. Box 117, Ruby, AK 99768 | (907) 468-4400 | (907) 468-4500 | elaine.wright@tananachiefs.org.
Ruby, Native Village of | N/A | Tanana Chiefs Conference, Legal Department, 122 First Avenue, Suite 600, Fairbanks, AK 99701 | (907) 452-8251 Ext. 3178 | (907) 459-3953 | N/A.
Russian Mission (see Iqurmuit Native Village) | N/A | N/A | N/A | N/A | N/A.
Saint George (see St. George) | N/A | N/A | N/A | N/A | N/A.
Saint Michael (see St. Michael) | N/A | N/A | N/A | N/A | N/A.
Salamatoff, Native Village of | Kalyn Simpson, ICWA Tribal Representative | Kenaitze Indian Tribe, P.O. Box 988, Kenai, AK 99611 | (907) 335-7200 | (907) 335-7236 | ksimpson@kenaitze.org.
Salamatoff, Native Village of | Rebecca Strong, ICWA Tribal Representative | Kenaitze Indian Tribe, P.O. Box 988, Kenai, AK 99611 | (907) 335-7200 | (907) 335-7236 | rstrong@kenaitze.org.
Sand Point (see Qagan Tayaguyngin Tribe of Sand Point Village) | N/A | N/A | N/A | N/A | N/A.
Savoonga, Native Village of | Ruthie Okoomealingok, Tribal Family Coordinator | P.O. Box 34, Savoonga, AK 99769 | (907) 984-6758 | (907) 984-6759 | tfc.sva@kawerak.org.
Savoonga, Native Village of | Traci McGarry, Program Director | Kawerak, Inc. Children & Family Services, P.O. Box 948, Nome, AK 99762 | (907) 443-4376 | (907) 443-4474 | cfsdir@kawerak.org.
Saxman (see Organized Village of Saxman) | N/A | N/A | N/A | N/A | N/A.
Scammon Bay, Native Village of | Michelle Akerealrea, ICWA Worker | P.O. Box 110, Scammon Bay, AK 99662 | (907) 558-5078; (907) 558-5425 | (907) 558-5079; (907) 558-5134 | makerelrea@avcp.org.
Scammon Bay, Native Village of | Bradon Aguchak, Tribal Administrator | P.O. Box 110, Scammon Bay, AK 99662 | (907) 558-5078; (907) 558-5425 | (907) 558-5079; (907) 558-5134 | admin@marayarmiut.ocm.
Scammon Bay, Native Village of | Cheryl Offt, ICWA Director | Association of Village Council Presidents, P.O. Box 219, Bethel, AK 99559 | (907) 543-7461 | (907) 543-5759 | cofft@avcp.org.
Selawik, Native Village of | Jessie Hingsbergen, ICWA Coordinator | P.O. Box 59, Selawik, AK 99770 | (907) 484-2165 or (907) 484-2225 | (907) 424-2001 or (907) 484-2226 | icwa@akuligaq.org.
Selawik, Native Village of | Lenora Foxglove, Administrator | P.O. Box 59, Selawik, AK 99770 | (907) 484-2165 or (907) 484-2225 | (907) 424-2001 or (907) 484-2226 | tribeadmin@akuligaq.org.
Selawik, Native Village of | N/A | Maniilaq Association, Family Services, P.O. Box 256, Kotzebue, AK 99752 | (907) 442-7870 | N/A | N/A.
Seldovia Village Tribe | Shannon Custer, ICWA Representative | PO Drawer L, Seldovia, AK 99663 | (907) 234-7898 or (907) 435-3252 | (907) 234-7865 | scuster@svt.org.
Shageluk Native Village | Alana Notti, Tribal Family Youth Specialist | P.O. Box 109, Shageluk, AK 99665 | (907) 473-8229 | (907) 473-8275 | Alana.notti@tananachiefs.org.
Shageluk Native Village | N/A | Tanana Chiefs Conference, Legal Department, 122 First Avenue, Suite 600, Fairbanks, AK 99701 | (907) 452-8251 Ext. 3178 | (907) 459-3953 | N/A.
Shaktoolik, Native Village of | Gail Evan, Tribal Family Coordinator | P.O. Box 100, Shaktoolik, AK 99771 | (907) 955-2444 | (907) 955-2443 | tfc.skk@kawerak.org.
Shaktoolik, Native Village of | Traci McGarry, Program Director | Kawerak, Inc. Children & Family Services, P.O. Box 948, Nome, AK 99762 | (907) 443-4376 | (907) 443-4474 | cfsdir@kawerak.org.
Sheldon's Point (see Nunam Iqua) | N/A | N/A | N/A | N/A | N/A.
Shishmaref, Native Village of | Karla Nayokpuk, Tribal Family Coordinator | P.O. Box 72110, Shishmaref, AK 99772 | (907) 649-3078 | (907) 649-2278 | tfc.shh@kawerak.org.
Shishmaref, Native Village of | Traci McGarry, Program Director | Kawerak, Inc. Children & Family Services, P.O. Box 948, Nome, AK 99762 | (907) 443-4376 | (907) 443-4474 | cfsdir@kawerak.org.
Shungnak, Native Village of | Sally Custer, ICWA Worker | P.O. Box 64, Shungnak, AK 99773 | (907) 437-2163 | (907) 437-2183 | sally.custer@issingnak.org.
Shungnak, Native Village of | Glenda Douglas, Administrator | P.O. Box 64, Shungnak, AK 99773 | (907) 437-2163 | (907) 437-2183 | tribeadmin@issingnak.org.
Shungnak, Native Village of | N/A | Maniilaq Association, Family Services, P.O. Box 256, Kotzebue, AK 99752 | (907) 442-7870 | N/A | N/A.
Sitka Tribe of Alaska | Galadriel Morales, Social Services Director | 456 Katlian Street, Sitka, AK 99835 | (907) 747-7293 | (907) 747-7643 | glade.morales@sitkatribe-nsn.gov.
Skagway Village | Marla Belisle, ICWA Worker | P.O. Box 1157, Skagway, AK 99840 | (907) 983-4068 | (907) 983-3068 | stcentrollment@skagwaytraditional.org.
Sleetmute, Village of | Cheryl Mellick, ICWA Worker | P.O. Box 109, Sleetmute, AK 99668 | (907) 449-4263 | (907) 449-4265 | SLQICWA@hughes.net.
Solomon, Village of | Elizabeth Johnson, Tribal Coordinator | P.O. Box 2053, Nome, AK 99762 | (907) 443-4985 | (907) 443-5189 | tc.sol@kawerak.org.
South Naknek Village | Lorraine Zimin, ICWA Coordinator | 2521 E. Mountain Village Dr., B. 388, Wasilla, AK 99654 | (907) 631-3648 | (907) 631-0949 | N/A.
South Naknek Village | Lorianne Rawson, Tribal Administrator | 2521 E. Mountain Village Dr., B. 388, Wasilla, AK 99654 | (907) 631-3648 | (907) 631-0949 | N/A.
South Naknek Village | Cynthia Nixon, Children's Services Division Manager | Bristol Bay Native Association, P.O. Box 310, 1500 Kanakanak Road, Dillingham, AK 99576 | (907) 842-4139 | (907) 842-4106 | cnixon@bbna.com.
St. George, Native Village of | N/A | N/A | N/A | N/A | N/A.
St. Mary's: see Algaaciq | N/A | N/A | N/A | N/A | N/A.
St. Mary's Igloo: see Teller | Ozzy E. Escarate, ICWA Representative | Aleutian/Pribilof Islands Association, 1131 East International Airport Road, Anchorage, AK 99518-1408 | (907) 276-2700 | (907) 222-9735 | icwa@apiai.org.
St. Michael, Native Village of | Shirley Martin, Tribal Family Coordinator | P.O. Box 59050, St. Michael, AK 99659 | (907) 923-2546 | (907) 923-2474 | tfc.smk@kawerak.org.
St. Michael, Native Village of | Traci McGarry, Program Director | Kawerak, Inc. Children & Family Services, P.O. Box 948, Nome, AK 99762 | (907) 443-4376 | (907) 443-4474 | cfsdir@kawerak.org.
St. Paul, Pribilof Islands Aleut Community of | Charlene Naulty, M.S., Director | 2050 Venia Minor Road, 1500 W. 33rd Street, Suite 100 Anchorage, AK 99503 and P.O. Box 86, St. Paul Island, AK 99660 | (907) 546-3200; (907) 546-8308 | (907) 546-3254 | cjnaluty@aleu.com.
Stebbins Community Association | Tribal Family Coordinator | P.O. Box 948, Stebbins, AK 99762 | (907) 934-2334 | (907) 934-2675 | tfc.wbb@kawerak.org.
Stebbins Community Association | Traci McGarry, Program Director | Kawerak, Inc. Children & Family Services, P.O. Box 948, Nome, AK 99762 | (907) 443-4376 | (907) 443-4474 | cfsdir@kawerak.org.
Stevens, Native Village of | Cheryl Mayo-Kriska, ICWA Worker | P.O. Box 71372, Stevens Village, AK 99774 | (907) 452-7162 | (907) 478-7229 | N/A.
Stony River, Native Village of | Mary Willis, Tribal President | P.O. Box SRV, Stony River, AK 99557 | (907) 537-3270 or (907) 537-3258 | (907) 537-3254 | N/A.
Stony River, Native Village of | Cheryl Offt, ICWA Director | Association of Village Council Presidents, P.O. Box 219, Bethel, AK 99559 | (907) 543-7461 | (907) 543-5759 | cofft@avcp.org.
Sun'aq Tribe of Kodiak | Linda Resoff, Social Services Director | 312 West Marine Way, Kodiak, AK 99615 | (907) 486-4449 | (907) 486-3361 | socialservices@sunaq.org.
Takotna Village | N/A | P.O. Box 7529, Takotna, AK 99675 | (907) 298-2212 | (907) 298-2314 | N/A.
Takotna Village | N/A | Tanana Chiefs Conference, Legal Department, 122 First Avenue, Suite 600, Fairbanks, AK 99701 | (907) 452-8251 Ext. 3178 | (907) 459-3953 | N/A.
Tanacross, Native Village of | Colleen Denny, Tribal Family Youth Specialist | P.O. Box 76009, Tanacross, AK 99776 | (907) 883-5024 | (907) 883-4497 | colleen.denny@tananachiefs.org.
Tanacross, Native Village of | N/A | Tanana Chiefs Conference, Legal Department, 122 First Avenue, Suite 600, Fairbanks, AK 99701 | (907) 452-8251 Ext. 3178 | (907) 459-3953 | N/A.
Tanana, Native Village of | Donna May Folger, Tribal Family Youth Specialist | Box 77130, Tanana, AK 99777 | (907) 366-7160 | (907) 366-7195 | tananatyfs@gmail.com.
Tanana, Native Village of | N/A | Tanana Chiefs Conference, Legal Department, 122 First Avenue, Suite 600, Fairbanks, AK 99701 | (907) 452-8251 Ext. 3178 | (907) 459-3953 | N/A.
Tangirnaq (Lesnoi Village aka Woody Island) | Robert Stauffer | 194 Alimaq Dr., Kodiak, AK 99615 | (907) 486-9806 | N/A | N/A.
Tatitlek, Native Village of | Victoria Vlasoff, Tribal Administrator | P.O. Box 171, Tatitlek, AK 99677 | (907) 325-2311 | (907) 325-2289 | N/A.
Tazlina, Native Village of | Marce Simeon, ICWA Coordinator | P.O. Box 87, Glennallen, AK 99588 | (907) 822-4375 | (907) 822-5865 | marce@cvinternet.net.
Telida Village | Josephine Royal, Tribal Administrator/Tribal Family Youth Specialist | 3131 N. Lazy Eight Ct., Wasilla, AK 99654 | (907) 864-0629 | (907) 376-3540 | N/A.
Telida Village | N/A | Tanana Chiefs Conference, Legal Department, 122 First Avenue, Suite 600, Fairbanks, AK 99701 | (907) 452-8251 Ext. 3178 | (907) 459-3953 | N/A.
Teller, Native Village of | Dolly Kugzruk, Tribal Family Coordinator | P.O. Box 629, Teller, AK 99778 | (907) 642-2185 | (907) 642-2189/3000 | tfc.tla@kawerak.org.
Teller, Native Village of | Traci McGarry, Program Director | Kawerak, Inc. Children & Family Services, P.O. Box 948, Nome, AK 99762 | (907) 443-4376 | (907) 443-4474 | cfsdir@kawerak.org.
Tetlin, Native Village of | Nettie Warbelow, Tribal Family Youth Specialist | P.O. Box 797, Tok, AK 99780 | (907) 883-2021 | (907) 883-1267 | nwarbelow@acsalaska.net.
Tetlin, Native Village of | N/A | Tanana Chiefs Conference, Legal Department, 122 First Avenue, Suite 600, Fairbanks, AK 99701 | (907) 452-8251 Ext. 3178 | (907) 459-3953 | N/A.
Tlingit & Haida Indian Tribes of Alaska (see Central Council Tlingit and Haida Tribes) | N/A | N/A | N/A | N/A | N/A.
Togiak, Traditional Village of | Emma Wasillie, Case Worker | ICWA, P.O. Box 310, Togiak, AK 99678 | (907) 493-5431 | (907) 493-5734 | togiakicwa@bbna.com.
Togiak, Traditional Village of | Cynthia Nixon, Children's Services Division Manager | Bristol Bay Native Association, P.O. Box 310, 1500 Kanakanak Road, Dillingham, AK 99576 | (907) 842-4139 | (907) 842-4106 | cnixon@bbna.com.
Toksook Bay (see Nunakauyarmiut Tribe) | N/A | N/A | N/A | N/A | N/A.
Tuluksak Native Community | Samantha White, ICWA Worker | P.O. Box 95, Tuluksak, AK 99679 | (907) 695-6902 or (907) 695-6420 | (907) 695-6903 or (907) 695-6932 | N/A.
Tuluksak Native Community | Brandon Andrew, Tribal Administrator | P.O. Box 95, Tuluksak, AK 99679 | (907) 695-6902 or (907) 695-6420 | (907) 695-6903 or (907) 695-6932 | N/A.
Tuluksak Native Community | Cheryl Offt, ICWA Director | Association of Village Council Presidents, P.O. Box 219, Bethel, AK 99559 | (907) 543-7461 | (907) 543-5759 | cofft@avcp.org.
Tuntutuliak, Native Village of | Samantha White, ICWA Worker | P.O. Box 8086, Tuntutuliak, AK 99680 | (907) 256-2311 or (907) 256-2128 | (907) 256-2080 | swhite1@avcp.org;dwhite@tuntutuliaktc.org.
Tuntutuliak, Native Village of | Jonthan Pavila, Tribal Administrator | P.O. Box 8086, Tuntutuliak, AK 99680 | (907) 256-2311 or (907) 256-2128 | (907) 256-2080 | N/A.
Tuntutuliak, Native Village of | Cheryl Offt, ICWA Director | Association of Village Council Presidents, P.O. Box 219, Bethel, AK 99559 | (907) 543-7461 | (907) 543-5759 | cofft@avcp.org.
Tununak, Native Village of | Gregory Charlie, ICWA Worker | P.O. Box 77, Tununak, AK 99681 | (907) 652-6220 or (907) 652-6527 | (907) 652-6011 | gacharlie@avcp.org.
Tununak, Native Village of | James James, Tribal Administrator | P.O. Box 77, Tununak, AK 99681 | (907) 652-6220 or (907) 652-6527 | (907) 652-6011 | N/A.
Tununak, Native Village of | Cheryl Offt, ICWA Director | Association of Village Council Presidents, P.O. Box 219, Bethel, AK 99559 | (907) 543-7461 | (907) 543-5759 | cofft@avcp.org.
Twin Hills Village Council | Beverly Cano, Administrator | P.O. Box TWA, Twin Hills, AK 99576 | (907) 525-4821 | (907) 525-4822 | twinhillsadmin@bbna.com.
Twin Hills Village Council | Cynthia Nixon, Children's Services Division Manager | Bristol Bay Native Association, P.O. Box 310, 1500 Kanakanak Road, Dillingham, AK 99576 | (907) 842-4139 | (907) 842-4106 | cnixon@bbna.com.
Tyonek, Native Village of | Alfred Goozmer, Tribal President | P.O. Box 82009, Tyonek, AK 99682-0009 | (907) 583-2111 or (907) 583-2209 | (907) 583-2219 or (907) 583-2242 | N/A.
Tyonek, Native Village of | Arthur Standifer, ICWA Worker/Vice President | P.O. Box 82009, Tyonek, AK 99682-0009 | (907) 583-2111 or (907) 583-2209 | (907) 583-2219 or (907) 583-2242 | N/A.
Ugashik Village | Irma Joyce Rhodes King, ICWA Worker | 2525 Blueberry Road, Suite 205, Anchorage, AK 99503 | (907) 338-7611 | (907) 338-7659 | icwa@ugashikvillage.com.
Umkumiut Native Village | Nick Tom, Tribal Administrator | P.O. Box 90062, Nightmute, AK 99690 | (907) 647-6145 | (907) 647-6146 | N/A.
Umkumiut Native Village | Cheryl Offt, ICWA Director | Association of Village Council Presidents, P.O. Box 219, Bethel, AK 99559 | (907) 543-7461 | (907) 543-5759 | cofft@avcp.org.
Unalakleet, Native Village of | Marie Ivanoff, Tribal Family Coordinator | P.O. Box 357, Unalakleet, AK 99684 | (907) 624-3526 | (907) 624-5104 | tfc.unk@kawerak.org.
Unalakleet, Native Village of | Traci McGarry, Program Director | Kawerak, Inc. Children & Family Services, P.O. Box 948, Nome, AK 99762 | (907) 443-4376 | (907) 443-4474 | cfsdir@kawerak.org.
Unalaska (see Qawalangin Tribe of Unalaska) | N/A | N/A | N/A | N/A | N/A.
Unga Native Village of | Ozzy E. Escarate, ICWA Representative | Aleutian/Pribilof Islands Association, 1131 East International Airport Road, Anchorage, AK 99518-1408 | (907) 276-2700 | (907) 222-9735 | icwa@apiai.org.
Upper Kalskag Native Village (see Kalskag) | N/A | N/A | N/A | N/A | N/A.
Venetie, Native Village of | Larry Williams, ICWA Worker | P.O. Box 81080, Venetie, AK 99781 | (907) 849-8212 | (907) 849-8216
Venetie, Native Village of | N/A | Tanana Chiefs Conference, Legal Department, 122 First Avenue, Suite 600, Fairbanks, AK 99701 | (907) 452-8251 Ext. 3178 | (907) 459-3953 | N/A.
Wainwright, Native Village of | N/A | P.O. Box 143, 1212 Airport Road, Wainwright, AK, 99782 | (907) 763-2575 | (907) 763-2576 | N/A.
Wainwright, Native Village of | Maude Hopson, Community & Social Services Division Manager | Arctic Slope Native Association, P.O. Box 29, Barrow, AK 99723 | (907) 852-9374 | (907) 852-9152 | maude.hopson@arcticslope.org.
Wales, Native Village of | Rachel Ozenna, Tribal Family Coordinator | P.O. Box 549, Wales, AK 99783 | (907) 644-2185 | (907) 644-3983 | tfc.waa@kawerak.org.
Wales, Native Village of | Traci McGarry, Program Director | Kawerak, Inc. Children & Family Services, P.O. Box 948, Nome, AK 99762 | (907) 443-4376 | (907) 443-4474 | cfsdir@kawerak.org.
White Mountain, Native Village of | Carol Smith, Tribal Family Coordinator | P.O. Box 84090, White Mountain, AK 99784 | (907) 638-2008 | (907) 638-2009 | tfc.wmo@kawerak.org.
White Mountain, Native Village of | Traci McGarry, Program Director | Kawerak, Inc. Children & Family Services, P.O. Box 948, Nome, AK 99762 | (907) 443-4376 | (907) 443-4474 | cfsdir@kawerak.org.
Woody Island (see Lesnoi Village) | N/A | N/A | N/A | N/A | N/A.
Wrangell Cooperative Association | Elizabeth Newman, Family Caseworker II | P.O. Box 1198, Wrangell, AK 99929 | (907) 874-3482 | (907) 874-2982 | bnewman@ccthita.org.
Yakutat Tlingit Tribe | Gloria A. Benson | ICWA Program, P.O. Box 418, Yakutat, AK 99689 | (907) 784-3368 | (907) 784-3664 | gbenson@ytttribe.org.
Yupiit of Andreafski | Tribal Administrator | P.O. Box 88, St. Mary's, AK 99658 | (907) 438-2572 | (907) 438-2573 | N/A.
Yupiit of Andreafski | Cheryl Offt, ICWA Director | Association of Village Council Presidents, P.O. Box 219, Bethel, AK 99559 | (907) 543-7461 | (907) 543-5759 | cofft@avcp.org.

2. Eastern Region

Eastern Regional Director, 545 Marriott Drive, Suite 700, Nashville, TN 37214; Phone: (615) 564-6700; Fax: (615) 564-6701.

Tribe | ICWA POC | Mailing address | Phone No. | Fax No. | Email address
Aroostook Band of Micmac Indians | Luke Joseph, ICWA Director | 7 Northern Road, Presque Isle, ME 04769 | (207) 764-1972 | (207) 764-7667 | ljoseph@micmac-nsn.gov.
Catawba Indian Nation of South Carolina | Jessica Grant, ICWA Coordinator | Catawba Indian Nation, 996 Avenue of Nations, Rock Hill, SC 29730 | (803) 366-4792 Ext. 236 | (803) 325-1242 | Jessica.grant@catawbaindian.net.
Cayuga Nation of New York | Sharon Leroy, Executor | P.O. Box 803, Seneca Falls, NY 13148 | (315) 568-0750 | (315) 568-0752 | sharon.leroy@nsncayuganation-nsn.gov.
Coushatta Tribe of Louisiana | Milton Hebert, Social Service Director | P.O. Box 967, Elton, LA 70532 | (337) 584-1433 | (337) 584-1474 | mhebert@coushattatribela.org.
Eastern Band of Cherokee Indians | Jenny Bean, Family Safety Supervisor | P.O. Box 666, Cherokee, NC 28719 | (828) 359-6149 | (828) 359-0216 | jennbean@nc-cherokee.com.
Houlton Band of Maliseet Indians | Lori Jewell, LMSW/cc, ICWA Director | 13-2 Clover Court, Houlton, ME 04730 | (207) 532-7260 (207) 694-0213 Cell: (207) 538-2266 | (207) 532-7287 | ljewell@maliseets.com.
Jena Band of Choctaw Indians | Mona Maxwell, Social Services Director | P.O. Box 14, Jena, LA 71342 | (318) 992-1169 | (318) 992-1192 | mmaxwell@jenachoctaw.org.
Mashantucket Pequot Tribal Nation | Valerie Burgess, Director Child Protective Services | 102 Muhshee Mahchaq, P.O. Box 3313, Mashantucket, CT 06338 | (860) 396-2007 | (860) 396-2144 | vburgess@mptn-nsn.gov.
Miccosukee Tribe of Indians of Florida | Jennifer Prieto, Director of Social Services | P.O. Box 440021, Tumiami Station, Miami, FL 33144 | (786) 409-1241 | (305) 894-5232 | jenniferp@miccosukeetribe.com.
Mississippi Band of Choctaw Indians | Natasha Wesley, Legal Secretary | P.O. Box 6258, Choctaw, MS 39350 | (601) 656-4507 | (601) 656-1357 | Natasha.wesley@choctaw.org.
Mohegan Indian Tribe | Irene Miller, APRN, Director, Family Services | 13 Crow Hill Road, Uncasville, CT 06382 | (860) 862-6236 | (860) 862-6324 | imiller@moheganmail.com.
Narragansett Indian Tribe | Wenonah Harris, Director, Tribal Child Advocate | 4375B South County Trail or P.O. Box 268, Charlestown, RI 02813 | (401) 824-9034 (401) 364-1100 Ext. 233 Ext. 203 | (401) 364-1104 | Wenonah@nithpo.com.
Oneida Indian Nation | Kim Jacobs, Nation Clerk | Box 1, Vernon, NY 13476 | (315) 829-8337 | (315) 829-8392 | kjacobs@oneida-nation.org.
Onondaga Nation | Cissy Elm, Director | 104 W Conklin Ave., Nedrow, NY 13120 | (315) 469-9196 | (315) 469-3250 |
Passamaquoddy Tribe of Maine—Indian Township Reservation | Tene Downing, Director of Child Welfare | P.O. Box 301, Princeton, ME 04668 | (207) 796-6133 | (207) 796-5606 | tfdowning5@gmail.com.
Passamaquoddy Tribe—Pleasant Point | Frances LaCoute, Social Services Director | P.O. Box 343, Perry, ME 04667 | (207) 853-5111 | (207) 853-9618 | flacoute@wabanaki.com.
Penobscot Nation | Brooke Loring, Director of Social Services | 4 Down Street, Indian Island, ME 04468 | (207) 817-3164 Ext. 1 | (207) 817-3166 | Brooke.loring@panobscotnation.org.
Poarch Band of Creek Indians | Michealine Deese, Child and Family Welfare Coordinator | 5811 Jack Springs Rd., Atmore, AL 36502 | (251) 368-9136 Ext. 2603 | (251) 368-0828 | mdeese@pci-nsn.gov.
Sac & Fox Tribe of the Mississippi in Iowa—Meskwaki | Mylene Wanatee, Meskwaki Family Services Director | P.O. Box 245, Tama, IA 52339 | (641) 484-4444 | (641) 484-2103 | recruiter.mfs@meskwaki-nsn.gov.
Saint Regis Band of Mohawk Indians | Jean Square, Program Manager | 412 State Route 37, Akwesasne, NY 13655 | (518) 358-2360 | (518) 358-9107 | Jean.square@srmt-nsn.gov, icwa@srmt-nsn.gov.
Seminole Tribe of Florida | Shamika Beasley, Advocacy Administrator | 3006 Josie Billie Avenue, Hollywood, FL 33024 | (954) 965-1314 | (954) 965-1304 | shamikabeasley@semtribe.com.
Seneca Nation of Indians | Jennifer Tallchief, Adminstrative Assistant | P.O. Box 500, Salamanca, NY 14779 | (716) 945-5894 | (716) 945-7881 | Jennifer.tallchief@senecahealth.org.
Shinnecock Indian Nation of New York | Paula Collins | ATTN: CHWP Shinnecock Health Services, P.O. Box 68, South Hampton, NY 11969 | (631) 287-6476 | N/A | Paul.collins@shinnecock.org.
Tonawanda Band of Seneca | Darwin Hill, Chief | Council of Chiefs, 7027 Meadville Road, Basom, NY 14013 | (716) 542-4244 | (716) 542-4008 | Tonseneca@aol.com.
Tunica-Biloxi Indian Tribe of Louisiana | Evelyn Cass, Registered Social Worker | P.O. Box 493, Marksville, LA 71351 | (318) 240-6444 | (318) 500-3011 | ecass@tunica.org.
Tuscarora Nation of New York | Chief Leo Henry, Clerk | 206 Mount Hope Road, Lewistown, NY 14092 | (716) 601-4737 | (888) 800-9787 | N/A
Wampanoag Tribe of Gay Head (Aquinnah) | Bonnie Chalifoux, Director Human Services | 20 Black Brook Road, Aquinnah, MA 02539 | (508) 645-9265 Ext. 133 | (508) 645-2755 | bonnie@wampanoagtribe.net.
Mashpee Wampanoag Tribe of Massachusetts | Catherine M. Hendrix, ICWA Director | 483 Great Neck Road, South Mashpee, MA 02649 | (508) 477-0208 Ext. 144 | (508) 477-0208 | Catherine.hendrix@nwtribe-nsn.gov.

3. Eastern Oklahoma Region

Eastern Oklahoma Regional Director, P.O. Box 8002, Muskogee, OK 74402-8002; Phone: (918) 781-4600; Fax (918) 781-4604.

Tribe | ICWA POC | Mailing address | Phone No. | Fax No. | Email address
Alabama Quassarte Tribal Town | Malinda Noon, ICWA Director | P.O. Box 187, Wetumka, OK 74883 | (405) 452-3859 | (405) 452-3435 | mnoon@alabama-quassarte.org.
Cherokee Nation | Nikki Baker-Linmore, Director | P.O. Box 948, Tahlequah, OK 74465 | (918) 458-6900 | (918) 458-6146 | nikki-baker@cherokee.org.
Chickasaw Nation | Michelle Price, Director Child Welfare Services | 1401 Hoppe Blvd., Ada, OK 74820 | (580) 272-5550 | (580) 272-5553 | michelle.price@chickasaw.net.
Choctaw Nation of Oklahoma | Amanda Robinson, ICW Director | Children & Family Services, P.O. Box 1210, Durant, OK 74702 | (580) 924-8280 Ext. 2402 | (580) 920-3197 | arobinson@choctawnation.com.
Delaware Tribe of Indians | Aimee Turner, Department of Family and Children Services | 601 High Street, Caney, KS 67333 | (620) 879-2189 Ext. 6 | (620) 897-2114 | aturner@delawaretribe.org.
Eastern Shawnee Tribe of Oklahoma | Tamara Gibson, Indian Child Welfare Director | 10100 S Bluejacket Road, Suite 3, Wyandotte, OK 74370 | (918) 666-7710 | (888) 971-3908 | tgibson@estoo.net.
Kialegee Tribal Town | Angie Beaver, ICW Director | P.O. Box 332, Wetumka, OK 74883 | (405) 452-5388 | (405) 452-3413 | angie.beaver@kialegeetribe.net.
Miami Tribe of Oklahoma | Janet Grant, Social Services Director | P.O. Box 1326, Miami, OK 74355 | (918) 541-1381 | (918) 542-6448 | Jgrant@miamination.com.
Modoc Tribe of Oklahoma | Regina Shelton, Division of Children and Family Services | 625 6th SE, Miami, OK 74354 | (918) 542-7890 | (918) 542-7878 | modoc.ccdf@yahoo.com.
Muscogee (Creek) Nation | Kimee Wind-Hummingbird, Director of Child and Family Services | P.O. Box 580, Okmulgee, OK 74447 | (918) 732-7859 | (918) 732-7854 | Kwind-hummingbird@mcn-nsn.gov.
Osage Tribe | Leah Bighorse, Intake-Supervisor | 255 Senior Drive, Pawhuska, OK 74056 | (918) 287-5341 | (918) 287-5231 | lbighorse@osagenation-nsn.gov.
Ottawa Tribe of Oklahoma | Roy A. Ross, Tribal Social Services | P.O. Box 110, Miami, OK 74355 | (918) 540-1536 | (918) 542-3214 | rross.oto@gmail.com.
Peoria Tribe of Indians of Oklahoma | Doug Journeycake, Indian Child Welfare Director | P.O. Box 1527, Miami, OK 74355 | (918) 540-2535 | (918) 540-2538 | djourneycake@peoriatribe.com.
Quapaw Tribe of Oklahoma | Mandy Dement, Family Services, ICW Director | P.O. Box 765, Quapaw, OK 74363 | (918) 238-3152 | (918) 674-2581 | mdement@quapawtribe.com.
Seminole Nation of Oklahoma | Tracy Haney, Director, Indian Child Welfare | P.O. Box 1498, Wewoka, OK 74884 | (405) 257-9038 | (405) 257-9036 | haney.t@sno-nsn.gov.
Seneca-Cayuga Nation of Oklahoma | Mark Westfall, ICW Director | Indian Child Program, 23701 South 655 Road, Grove, OK 74344 | (918) 516-3508 | (918) 516-0248 | mwestfall@sctribe.com.
Thlopthlocco Tribal Town | Shane Berry, Social Service Manager | P.O. Box 188, Okemah, OK 74859 | (918) 560-6121 | (918) 623-3023 | sberry@tttown.org.
United Keetoowah Band of Cherokee Indians in Oklahoma | Raven Owl, ICW Advocate | P.O. Box 746, Tahlequah, OK 74465 | (918) 772-4300 | (918) 431-0152 | rowl@ukb-nsn.gov.
Wyandotte Tribe of Oklahoma | Tara Gragg, Social Worker | 64700 E. Hwy 60, Wyandotte, OK 74370 | (918) 678-6355 | (918) 678-3087 | tgragg@wyandotte-nation.org.

4. Great Plains Region

Great Plains Regional Director, 115 4th Avenue SE, Aberdeen, SD 57401; Phone: (605) 226-7343; Fax: (605) 226-7446.

Tribe | ICWA POC | Mailing address | Phone No. | Fax No. | Email address
Cheyenne River Sioux Tribe | Diane Garreau, Indian Child Welfare Act Program Director | P.O. Box 590, Eagle Butte, SD 57625 | (605) 964-6460 | (605) 964-6463 | Dgarreau@hotmail.com.
Crow Creek River Sioux Tribe | LeeAnn Piskule, ICWA Specialist | ICWA Program, P.O. Box 143, Fort Thompson, SD 57339 | (605) 245-2581 | (605) 245-2343 | ccst.icwa@hotmail.com.
Flandreau Santee Sioux Tribe | Jessica Morson, ICWA Director | Flandreau Santee Sioux Tribal Social Services, P.O. Box 283, Flandreau, SD 57028 | (605) 997-5055 | (605) 997-3694 | jessica.morrison@fsst.org.
Lower Brule Sioux Tribe | Rose R. McCauley and Jera Brouse-Koster, Designated Tribal Agent-ICWA | 187 Oyate Circle, Lower Brule, SD 57548 | (605) 473-8000 Ext. 48163 | (605) 473-8051 | J_lou_koster@yahoo.com.
Oglala Sioux Tribe | Shirley Blackstone, ICWA Supervisor | Oglala Sioux Tribe—ONTRAC, P.O. Box 2080, Pine Ridge, SD 57770 | (605) 867-5752 | (605) 867-1893 | sblackstone@oglala.org.
Omaha Tribe of Nebraska | Mosiah Harlen and Kash Echtenkamp, ICWA Director and ICWA Specialist | Omaha Tribe of Nebraska P.O. Box 500, Macy, NE 68039 | (402) 837-4330 | (402) 837-4332 | Moshiah.harlan@omahatribe.com; kash.echtenkamp@omahatribe.com.
Ponca Tribe of Nebraska | Lynn Schultz, ICWA Specialist | Ponca Tribe of Nebraska Social Services, 1800 Syracuse Avenue Norfolk, NE 68701 | (402) 371-8834 | (402) 371-7564 | lschultz@poncatribe-ne.org.
Rosebud Sioux Tribe | Shirley J. Bad Wound, ICWA Specialist | Rosebud Sioux Tribe ICWA Program, P.O. Box 609, Mission, SD 57555 | (605) 856-5270 | (605) 856-5268 | rsticwa9@gwtc.net.
Santee Sioux Nation | Karen RedOwl, ICWA Specialist | Dakota Tiwahe Social Services Program, Route 2, Box 5191, Niobrara, NE 68760 | (402) 857-2342 | (402) 857-2361 | karen.redowl@nebraska.gov.
Sisseton-Wahpeton Sioux Tribe | Evelyn Pilcher, ICWA Director | P.O. Box 509 Agency Village, SD 57262 | (605) 698-3992 | (605) 698-3999 | evelyn.pilcher@state.sd.us.
Spirit Lake Sioux Tribe | Marie Martin, ICWA Director | Spirit Lake Tribal Social Services, P.O. Box 356, Fort Totten, ND 58335 | (701) 766-4404 | (701) 766-4722 | slticwadir@spiritlakenation.com.
Standing Rock Sioux Tribe | Raquel Franklin, and Rebecca Graybull, ICWA Director and ICWA Coordinator | Standing Rock Sioux Tribe ICWA, P.O. Box 770, Fort Yates, ND 58538 | (701) 854-3095 | (701) 854-5575 | rfranklin@standingrock.org; rgraybull@standingrock.org.
Three Affiliated Tribes (Mandan, Arikara & Hidatsa) | Vincent Roehr and Krystal Hartman, ICWA Specialists and ICWA Clerk | 404 Frontage Drive, New Town, ND 58763 | (701) 627-8198 | (701) 627-4225 | vroehn@mhnation.com; khartman@mhnation.com.
Turtle Mountain Band of Chippewa Indians | Marilyn Poitra, ICWA Coordinator | Child Welfare and Family Services, P.O. Box 900 Belcourt, ND 58316 | (701) 477-5688 | (701) 477-5797 | marilynp@tmcwfs.net.
Winnebago Tribe of Nebraska | Elexa Mollet, ICWA Specialist | ICWA Program, P.O. Box 723, Winnebago, NE 68071 | (402) 878-2379 Ext. 115 | (402) 878-2228 | candace.payer@winnebagotribe.com.
Yankton Sioux Tribe of South Dakota | Melissa Sanchez-Chrans, ICWA Director | Yankton Sioux Tribe ICWA Department, P.O. Box 1153, Wagner, SD 57361 | (605) 384-5712 | (605) 384-5014 | yst_icwa@outlook.com.

5. Midwest Region

Midwest Regional Director, 5600 West American Blvd., Suite 500, Norman Pointe II Building, Bloomington, MN 55437; Phone: (612) 725-4500; Fax: (612) 713-4401.

Tribe | ICWA POC | Mailing address | Phone No. | Fax No. | Email address
Bad River Band of the Lake Superior Tribe of Chippewa Indians | Gina Secord, Abinoojiyag Resource Center Program Manager | P.O. Box 55, Odanah, WI 54861 | (715) 682-7135 Ext. 3 | (715) 682-7887 | ARCMgr@badriver-nsn.gov.
Bay Mills Indian Community | Phyllis Kinney, Tribal Court Administrator | 12140 W. Lakeshore Dr., Brimley, MI 49715 | (906) 248-3241 | (906) 248-5817 | phyllisk@baymills.org.
Bois Forte Reservation Business Committee | Angela Wright, Indian Child Welfare Supervisor | 13071 Nett Lake Road, Suite A, Nett Lake, MN 55771 | (218) 757-3295 | (218) 757-3335 | amwright@boisforte.nsn.gov.
Fond du Lac Reservation Business Committee | Kevin Dupuis, Chairperson | 1720 Big Lake Road, Cloquet, MN 55720 | (218) 879-4593 | (218) 879-4146 | kevindupuis@fdlrez.com.
Forest County Potawatomi | Eric Swanson, Family Services Division Director | 5415 Everybody's Road, Crandon, WI 54520 | (715) 478-4812 | (715) 478-7442 | Eric.swanson@fcpotawatomi-nsn.gov.
Grand Portage Reservation Business Center | Roger Linehan, Human Service Director | P.O. Box 428, Grand Portage, MN 55605 | (218) 475-2453 | (218) 475-2455 | rlinehan@grandportage.com.
Grand Traverse Band of Ottawa and Chippewa Indians | Helen Cook, Anishinaabek Family Services Supervisor | 2605 N. West Bayshore Drive, Peshawbestown, MI 49682-9275 | (231) 534-7681 | (231) 534-7706 | helen.cook@gtbindians.com.
Hannahville Indian Community of Michigan | Wendy Lanaville, ICWA Worker | N15019 Hannahville B1 Road, Wilson, MI 49896 | (906) 723-2512 | (906) 466-7397 | wendy.lanaville@hichealth.org.
Ho-Chunk Nation | Caroline Blackdeer, ICWA Supervisor | P.O. Box 40, Black River Falls, WI 54615 | (715) 284-2622 | (715) 284-0097 | carolyn.blackdeer@ho-chunk.com.
Keweenaw Bay Indian Community | Tyler Larson, Director Social Services | 16429 Bear Town Road, Baraga, MI 49908 | (906) 353-4201 | (906) 353-8171 | tlarson@kbic-nsn.gov.
Lac Courte Oreilles Band of Lake Superior Chippewa Indian of Wisconsin | Lisa Stark, ICWA Worker | 13394 W. Trepania Road, Hayward, WI 54843 | (715) 558-7473 | (715) 634-2981 | icwaccess@lco-nsn.gov.
Lac du Flambeau Band of Lake Superior Chippewa Indians | Kristin Allen, ICW Director | P.O. Box 216, Lac du Flambeau, WI 54538 | (715) 588-4275 | (715) 588-3855 | ldficw@ldftribe.com.
Lac Vieux Desert Band of Lake Superior Chippewa Indians of Michigan | Marisa Vanzile, Social Services Director | P.O. Box 249, Watersmeet, MI 49969 | (906) 358-4940 | (906) 358-4900 | marisa.vanzile@lvdtribal.com.
Leech Lake Band of Ojibwe | Pam Michaud, Child Welfare Director | 190 Sailstar Drive NE, Cass Lake, MN 56633, P.O. Box 967, Cass Lake, MN 56633 | (218) 335-8270 | (218) 335-3768 | pam.machaud@llojibwe.com.
Little River Band of Ottawa Indians, Inc | William Gregory, Social Worker | 3031 Domres Road, Manistee, MI 49660 | (213) 398-2242 | (231) 398-3404 | bgregory@lrboi.com.
Little Traverse Band of Odawa Indians | Heather Boning, Human Services Director | 7500 Odawa Circle, Harbor Springs, MI 49740 | (231) 242-1620 | (213) 242-1635 | hboning@ltbbodawa-nsn.gov.
Lower Sioux Indian Community of Minnesota | Lisa Jones, Director | 39568 Reservation Highway 1, Morton, MN 56270 | (507) 697-8683 | (507) 697-9111 | lisa.jones@lowersioux.com.
Match-E-Be-Nash-She-Wish Band of Potawatomi Indians of Michigan (Gun Lake Tribe) | Lisa Pigeon, Human Services Coordinator | 2880 Mission Dr., Shelbyville, MI 49344 | (269) 397-1760 | (269) 397-1763 | leslie.pigeon@hhs.glt-nsn.gov.
Menominee Indian Tribe of Wisconsin | Carol Corn, Acting Director of Social Services | P.O. Box 520, Keshena, WI 54135 | (715) 799-5161 | (715) 799-6061 | ccorn@mitw.org.
Mille Lacs Band of Ojibwe | Mishelle Ballinger, Administrative Case Aid—Family Services | 17230 Noopiming Drive, Onamia, MN 56359 | (320) 532-7766 | (320) 532-7583 | mishelle.ballinger@hhs.millelacsband-nsn.gov.
Minnesota Chippewa Tribe of Minnesota Includes Six Component Reservations: Bois Forte Band, Fond Du Lac band; Grand Portage Band; Leech Lake Band; Mille Lacs Band; White Earth Band | George Goggleye, Human Services Director | P.O. Box 217, Cass Lake, MN 56633 | (218) 335-8586 | (218) 335-8080 | ggoggleye@mnchippewatribe.org.
Nottawaseppi Huron Band of the Potawatomi | Janet Foster, Clinical Social Worker | 1474 Mno Bmadzewen Way, Fulton, MI 49052 | (269) 704-8336 | (269) 729-4460 | socialwpc@nhbp.org.
Omaha Tribe of Nebraska | Mosiah Harlan, Director | Omaha Tribe of Nebraska, Child Protection Services, P.O. Box 444, Macy, NE 68039 | (402) 837-4330 | (402) 837-5275 | mosiah.harlan@omahatribe.com.
Oneida Tribe of Indians of Wisconsin | Heather Lee, ICWA Supervisor | Attn: Children and Family Services, P.O. Box 365, Oneida, WI 54155 | (920) 490-3700 | (920) 490-3820 | icw@oneidanation.org.
Pokagon Band of Potawatomi | Mark Pompey,Social Services Director | 58620 Sink Road, Dowagiac, MI 49047 | (269) 782-8998 | (269) 782-4295 | mark.pompey@pokagonband-nsn.gov.
Prairie Island Indian Community Mdewakanton Dakota Sioux of Minnesota | Renae Wallace,Family Service Manager | 5636 Sturgeon Lake Road, Welch, MN 55089 | (651) 385-4185 | (651) 385-4183 | rwallace@piic.org.
Red Cliff Band of Lake Superior Chippewa Indians of Wisconsin | Gretchen Morris, Indian Child Welfare Director | 88385 Pike Road, Highway 13, Bayfield, WI 54814 | (715) 779-3785 | (715) 779-3783 | gretchen.morris@redcliff-nsn.gov.
Red Lake Band of Chippewa Indians | Cheri Goodwin, Executive Director-Family & Children Services | P.O. Box 427, Red Lake, MN 56671 | (218) 679-2122 | (218) 679-1665 | cheri.goodwin@redlakenation.org.
Saginaw Chippewa Tribe of Michigan | Angela Gonzalez, ICWA & Licensing Supervisor | 7070 East Broadway Road, Mt. Pleasant, MI 48858 | (989) 775-4901 | (989) 775-4912 | agonzalez@sagchip.org.
Sault Ste. Marie Tribe of Chippewa Indians of Michigan | Juanita Bye, ACFS Division Director | 2218 Shunk Rd., Sault Ste. Marie, MI 49783 | (906) 632-5250 | (906) 632-5266 | jbye@saulttribe.net.
Shakopee Mdewakanton Sioux Community | Ashley Peterson, ICWA Representative | 2330 Sioux Trail NW, Prior Lake, MN 55372 | (952) 445-8900 or (952) 496-6112 | (952) 445-8906 | ashley.peterson@shakopeedakota.org.
Sokaogon Chippewa Community of Wisconsin | Nick Vanzile, Director Family Services | 10808 Sokaogon Drive, Crandon, WI 54520 | (715) 478-6437 | (715) 478-7618 | nick.vanzile@scc-sns.gov.
St. Croix Chippewa Indians of Wisconsin | Elizabeth Lowe, Indian Child Welfare Director | 4404 State Rd. 70, Webster, WI 54893 | (715) 349-8554 Ext. 5264 (715) 349-2671 | (715) 349-8665 | elizabethl@stcroixtribalcenter.com.
Stockbridge-Munsee Community of Wisconsin | Teresa Juga, ICWA Manager | Stockbridge Munsee Health and Wellness Center, W12802 County A, Bowler, WI 54416 | (715) 793-4580 | (715) 793-1312 | teresa.juga@mohican.com.
Upper Sioux Community of Minnesota | Kathleen Preuss, ICWA Manager | P.O. Box 147, 5744 Hwy. 67, Granite Falls, MN 56241 | (320) 564-6315 | (320) 564-2550 | kathleenpreuss@uppersiouxcommunity-nsn.gov.
White Earth Reservation Business Committee | Laurie York, Program Director | White Earth Indian Child Welfare, P.O. Box 358, White Earth, MN 56591 | (218) 983-4647 | (218) 983-3712 | laurie.york@whiteearth-nsn.gov.

6. Navajo Region

Navajo Regional Director, Navajo Regional Office, P.O. Box 1060, Gallup, NM 87305; Phone: (505) 863-8314; Fax: (505) 863-8324.

Tribe | ICWA POC | Mailing address | Phone No. | Fax No. | Email address
Navajo Nation | Regina Yazzie, MSW, Director, Navajo Children and Family Services (ICWA) | P.O. Box 1930, Window Rock, AZ 86515 | (928) 871-6806 | (928) 871-7667 | reginayazzie@navajo-nsn.gov.

7. Northwest Region

Northwest Regional Director, 911 NE 11th Avenue, Portland, OR 97232; Phone: (503) 231-6702; Fax (503) 231-2201.

Tribe | ICWA POC | Mailing address | Phone No. | Fax No. | Email address
Burns Paiute Tribe | Michelle Bradach, Social Service Director | 100 Pasigo Street, Burns, OR 97720 | (541) 573-8043 | (541) 573-4217 | bradachma@burnspaiute-nsn.gov.
Coeur d'Alene Tribe | Charles Henry, ICW Program Manager | P.O. Box 408, Plummer, ID 83851 | (208) 686-2071 | (208) 686-2059 | chenry@cdatribe-nsn.gov.
Confederated Salish & Kootenai Tribes | Lena Tewawina, ICWA Worker | P.O Box 278, Pablo, MT 59855 | (406) 675-2700 Ext. 1087 | (406) 275-2749 | lenat.tewawina@cskt.org.
Confederated Tribes and Bands of the Yakama Nation | Jessica Rammelsberg, Assistant Prosecutor | P.O. Box 151, Toppenish, WA 98948 | (509) 865-4458 | (509) 865-8963 | Jessica_rammelsberg@yakama.com.
Confederated Tribes of Coos, Lower Umpqua & Siuslaw Indians | Vicki Faciane, Health & Human Services Director | P.O. Box 3279, Coos Bay, OR 97420 | (541) 888-7515 | (541) 888-1027 | VFaciane@ctclusi.org.
Confederated Tribes of Siletz Indians | Cathern Tufts, Staff Attorney | P.O. Box 549, Siletz, OR 97380 | (541) 444-8324 | (541) 444-2307 | cathernt@ctsi.nsn.us.
Confederated Tribes of the Chehalis Reservation | Jose Caywood, Victim Services Case Manager | P.O. Box 536, Oakville, WA 98568 | (360) 709-1801 | (360) 273-5207 | jcaywood@chehalistribe.org.
Confederated Tribes of the Colville | Preston Boyd, Children and Family Services Manager | P.O. Box 150, Nespelem, WA 99155-011 | (509) 634-2774 | (509) 634-2633 | preston.boyd@colvilletribes.gov.
Confederated Tribes of the Grande Ronde Community of Oregon | Donna Johnson, ICWA Intake | 9615 Grand Ronde Road, Grand Ronde, OR 97347-0038 | (503) 879-4529 | (503) 879-2142 | donna.johnson@grandronde.org.
Confederated Tribes of the Umatilla Indian Reservation | Brent Leonhard, Attorney | 46411 Timine Way, Pendleton, OR 97801 | (541) 429-7406 | (541) 429-7402 | brentleonhard@ctuir.org.
Confederated Tribes of Warm Springs Reservation | Lisa Lomas, Chief Judge | P.O. Box 850, Warm Springs, OR 97761 | (541) 553-3287 | (541) 553-3281 | lisa.loma@wstribes.org.
Coquille Indian Tribe | Roni Jackson, ICWA Caseworker | P.O. Box 3190, Coos Bay, OR 97420 | (541) 888-9494 | (541) 888-0673 | ronijackson@coquilletribe.org.
Cow Creek Band of Umpqua Tribe of Indians | Michelle Moore, Human Services Director | 2371 NE Stephens Street, Roseburg, OR 97470 | (541) 677-5575 | (541) 677-5565 | mmoore@cowcreek.com.
Cowlitz Indian Tribe | Mike Yates, ICWA Caseworker | P.O. Box 2547, Longview, WA 98632-8594 | (360) 355-2835 | (360) 577-7432 | myates.health@cowcreek.com.
Hoh Indian Tribe | Katie Pullon, ICWA Caseworker | P.O. Box 2196, Forks, WA 98331 | (360) 780-0610 | N/A | katie.pullon@hohtribe-nsn.org.
Jamestown S'Klallam Tribe | Loni Greninger, ICW Supervisor | 1033 Old Blyn Hwy, Sequim, WA 98382 | (360) 681-4660 | (360) 681-3402 | t.pankoski@jamestowntribe.org.
Kalispel Tribe of Indians | Wendy Thomas, Social Services Director | 934 S Garfield Road, Airway Heights, WA 99001 | (509) 789-7630 | (509) 789-7675 | wthomas@camashealth.com.
Klamath Tribes | Candi Uses Arrow, CFS Manager | P.O Box 436, Chiloquin, OR 97624 | (541) 783-2219 | (541) 783-7783 | candi.usesarrow@klamathtribes.com.
Kootenai Tribe of Idaho | Amethyst Aitken | P.O. Box 1269, Bonners Ferry, ID 83805-1269 | (208) 267-3591 | N/A | amethyst@kootenai.org.
Lower Elwha Tribal Community Council | Becca Weed, ICWA Program Manager | 3080 Lower Elwha Road, Port Angeles, WA 98363 | (360) 452-7033 | (360) 457-8429 | becca.weed@elwha.org.
Lummi Tribe of the Lummi Reservation | Robert Ludgate, ICWA Supervisor | P.O. Box 1024, Ferndale, WA 98248 | (360) 384-2324 | (360) 384-2341 | robertdl@lummi-nsn.gov.
Makah Indian Tribal Council | Isan Simpson, ICW Caseworker | P.O. Box 115, Neah Bay, WA 98357 | (360) 645-3257 | (360) 645-2806 | isan.simpson@makah.com.
Metlakatla Indian Community | Jacqueline Wilson, ICW Case Worker | P.O. Box 8, Metlakatla, AK 99926 | (907) 886-6914 | (907) 886-6913 | jwilsonm4@outlook.com.
Muckleshoot Indain Tribe | Romanjean Thomas, MCFS-ICWA Program Manager | 39015 172nd Avenue SE, Auburn, WA 98092 | (254) 876-3394 | (254) 876-3095 | romajean@muckleshoot-nsn.us.
Nez Perce Tribe | Joni Williams, CPS Supervisor | P.O. Box 365, Lapwai, ID 83540 | (208) 621-4702 | (208) 843-9401 | joniw@nezperce.org.
Nisqually Indian Community | Lorraine Van Brunt, Family Services Director | 4820 Nah-Num Drive SE, Olympia, WA 98513 | (360) 456-5221 | (360) 486-9555 | Vanbrunt.lorraine@nisqually-nsn.gov.
Nooksack Indian Tribe of Washington | Marilyn McLean, Family Service Director | 5061 Deming Road, Deming, WA 98244 | (360) 306-5090 | (360) 306-5099 | Marilyn.mclean@noocksack-nsn.gov.
Northwestern Band of Shoshoni Nation | Patty Timbimboo-Madsen, Children and Family Service Director | Enrollment Department, 707 North Main, Brigham City, UT 84302 | (435) 734-2286 Ext. 13 | (435) 723-6320 | ptimbimboo@nwbshoshone.com.
Port Gamble Indian Community | Cheryl Miller, Children and Family Community Services Director | 31912 Little Boston Road NE, Kingston, WA 98346 | (360) 287-9665 | (360) 297-9666 | cmiller@pgst.nsn.gov.
Puyallup Tribe | Sandra Cooper, ICWA Liaison | 3009 E. Portland Avenue, Tacoma, WA 98404 | (253) 405-7544 | (253) 680-5998 | sandra.Cooper@puyalluptribe.com.
Quileute Tribal Council | Nicole Earls, Human Services Director | P.O. Box 279, LaPush, WA 98350 | (360) 374-4306 | (360) 640-8795 | Nicole.earls@quileutenation.org.
Quinault Indian Nation | Amelia DeLaCruz, Social Service Manager | P.O. Box 189, Taholah, WA 98587 | (360) 276-8215 | (360) 276-4152 | Amelia.delacruz@quinault.org.
Samish Indian Nation | Michelle Johnson, Social Services Director | P.O. Box 217, Anacortes, WA 98221 | (360) 899-5282 | (360) 299-4357 | mjohnson@samishtribe.nsn.us.
Sauk-Suiattle Indian Tribe of Washington | Donna Furchert, ICW Director | 5318 Chief Brown Lane, Darrington, WA 98241 | (360) 436-2837 | (360) 436-0471 | dfucgert@sauk-suiattle.com.
Shoalwater Bay Tribal Council | Katherine Horne, Director, Social Services | P.O. Box 130, Tokeland, WA 98590 | (360) 267-8134 | (360) 267-0247 | khorne@shoalwaterbay-nsn.gov.
Shoshone Bannock Tribes of the Fort Hall Reservation | Brandelle Whitworth, Tribal Attorney | P.O. Box 306, Ft. Hall, ID 83203 | (208) 478-3923 | (208) 237-9736 | bwitworth@sbtribes.com.
Skokomish Tribal Council | Rosetta LaClair, ICWA Program Manager | 561 N. Tribal Center Road, Shelton, WA 98584 | (360) 426-7788 | (360) 877-2151 | rlaclair@skokomish.org.
Snoqualmie Tribe | Marilee Mai, ICW Program Manager | P.O. Box 969, Snoqualmie, WA 98045 | (425) 363-2032 | (425) 831-2112 | marilee.mai@snoqualmietribe.us.
Spokane Tribe of Indians | Tawhnee Colvin, Program Manager | P.O. Box 540, Wellpinit, WA 99040 | (509) 258-7502 | (509) 258-7029 | tawhneec@spokanetribe.com.
Squaxin Island Tribal Council | Adirian Emery, ICWA Caseworker | 10 SE Squaxin Lane, Shelton, WA 98584-9200 | (360) 432-3900 | (360) 426-6577 | aemery@squaxin.us.
Stillaguamish Tribe of Washington | Candy Hamilton, ICW Director | P.O. Box 3782, Arlington, WA 98223 | (360) 572-3460 | (360) 925-2862 | icwa@stillaquamish.com.
Suquamish Tribe of the Port Madison Reservation | Tara Reynon, ICWA Director | P.O. Box 498, Suquamish, WA 98392 | (360) 394-8479 | (360) 697-6774 | treynon@suquamish.nsn.us.
Swinomish Indians Tribal Community | Tracy Parker, Swinomish Family Services Coordinator | 17337 Reservation Rd, LaConner, WA 98257 | (360) 466-7222 | (360) 466-1632 | tparker@swinomish.nsn.us.
Tulalip Tribe | Roberta Hillaire, CFS Manager | 2828 Mission Hill Road, Tulalip, WA 98271 | (360) 716-3284 | (360) 716-0750 | rhallaire@tulaliptribe-nsn.gov.
Upper Skagit Indian Tribe of Washington | Felice Keegahn, Indian Child Welfare Coordinator | 25944 Community Plaza Way, Sedro Woolley, WA 98284 | (360) 854-7077 | (360) 854-7125 | felicek@upperskagit.com.

8. Pacific Region

Pacific Regional Director, BIA, Federal Building, 2800 Cottage Way, Room W-2820, Sacramento, CA 95825; Phone: (916) 978-6000; Fax: (916) 978-6099.

Tribe | ICWA POC | Mailing address | Phone No. | Fax No. | Email address
Agua Caliente Band of Cahuilla Indians | John T. Plata, General Counsel | 5401 Dinah Shore Drive, Palm Springs, CA 92264 | (760) 669-6837 | (760) 699-6863 | jplata@aguacaliente.net.
Alturas Rancheria | Chairman | P.O. Box 340, Alturas, CA 96101 | (530) 233-5571 | (530) 223-4165 | N/A.
Auburn Rancheria | Cheryl Douglas | United Auburn Indian Community, 935 Indian Rancheria Road, Auburn, CA 95603 | (916) 251-1550 | (530) 887-1028 | N/A.
Augustine Band of Cahuilla Indians | Mary Ann Green, Chairperson | P.O. Box 846, Coachella, CA 92236 | N/A | N/A | N/A.
Barona Band of Mission Indians | Jahari Weir Harrison, Indian Child Social Services Program Coordinator | Southern Indian Health Council, Inc., 4058 Willow Rd., Alpine, CA 91903 | (619) 445-1188 Ext. 208 | (619) 659-9782 | jharrison@sihc.org.
Bear River of Rhonerville Rancheria | Althea Jones, ICWA Advocate | 266 Keisner Rd., Loleta, CA 95551 | (707) 773-1900 Ext. 169 | (707) 875-7229 | altheajones@brb-nsn.gov.
Big Lagoon Rancheria | Chairperson | P.O. Box 3060, Trinidad, CA 95570 | (707) 826-2079 | (707) 826-0495 | N/A.
Big Pine Paiute Tribe | Jill Paydon, Tribal Administrator/ ICWA Representative | P.O. Box 700, Big Pine, CA 93513; 825 S. Main St., Big Pine, CA 93513 | (760) 938-2003 | (760) 938-2942 | j.paydon@bigpinepaiute.org.
Big Pine Paiute Tribe | Rhonda Willis, Tribal Administrator/ ICWA Representative | P.O. Box 700, Big Pine, CA 93513; 825 S. Main St., Big Pine, CA 93513 | (760) 938-2003 | (760) 938-2942 | r.willis@bigpinepaiute.org.
Big Sandy Rancheria | Regina Riley, Tribal Council Secretary | P.O. Box 337, Auberry, CA 93602 | (559) 374-0066 | (559) 374-0055 | GRiley@bsrnation.com.
Big Valley Rancheria | N/A | ICWA, 2726 Mission Rancheria Road, Lakeport, CA 95453 | (707) 263-3924 | (707) 263-3977 | resparza@big-valley.net.
Bishop Paiute Tribe | Gertrude Brown, ICWA Specialist | 50 TuSu Lane, Bishop, CA 93514 | (760) 873-7799 | (760) 873-3529 | gretrude.brown@bishoppaiute.org.
Blue Lake Rancheria | Arlea Ramsey, Tribal Administrator | P.O. Box 428, Blue Lake, CA 95525 | (707) 668-5101 | (707) 668-4272 | aramsey@bluelakerancheria-nsn.gov.
Bridgeport Indian Colony | Tribal Chairman | P.O. Box 1302, Boulevard, CA 91905 | (619) 766-4930 | (619) 776-4957 | N/A.
Buena Vista Rancheria of Me-Wuik Indians | Penny Arciniage, Tribal Member Services | 1418 20th Street, Suite 200, Sacramento, CA 95811 | (916) 491-0011 | (916) 491-0012 | penny@buenavistatribe.com.
Cabazon Band of Mission Indians | Chairman | 84-245 Indio Springs Drive, Indio, CA 92201 | (760) 342-2593 | (760) 347-7880 | N/A.
Cabazon Band of Mission Indians | Chairman | 84-245 Indio Springs Drive, Indio, CA 92201 | (760) 342-2593 | (760) 347-7880 | N/A.
Cachil DeHe Wintun/Colusa Indian Community | Yvonne Page, Counselor | 3730 Highway 45, Colusa, CA 95932 | (530) 458-6571 | (530) 458-8061 | ypage@colusa-nsn.gov.
Cahuilla Band of Mission Indians | Tribal Council | 52701 Hwy 371, Anza, CA 92539 | (951) 763-5549 | (951) 763-2808 | tribalcouncil@cahuilla.net.
California Valley Miwok Tribe | As of date of publication, there is no recognized government for this federally recognized tribe. Please contact Bureau of Indian Affairs, Pacific Regional Director for up to date information.
Campo Band of Mission Indians | Jahari Harrison, ICWA, Social Services Department | Southern Indian Health Council, Inc., 4058 Willow Rd., Alpine, CA 91903 | (619) 445-1188 Ext. 208 | (619) 659-9782 | jharrison@sihc.org.
Campo Band of Mission Indians | ICWA Director | Kumeyaay, Southern Indian Health Council, Inc., 4058 Willow Rd., Alpine, CA 91903 | (619) 445-1188 | (619) 445-0765 | jharrison@sihc.org.
Cedarville Rancheria | Melissa Cerda, Administrative Assistant | 1420 Guerneville Road, Suite 1, Santa Rosa CA 95403 | (707) 591-0580 | (707) 591-0583 | melissa@stewartspoint.org.
Cher-Ae Heights Indian Community of the Trinidad Rancheria | Amy Atkins, Executive Manager | P.O. Box 630, Trinidad, CA 95570 | (707) 677-0211 | (707) 677-3921 | aatkins@trinidadrancheria.com.
Chicken Ranch Rancheria | Monica Fox, Tribal Adminstrator | P.O. Box 1159, 9195 Tribal Way, Jamestown, CA 95327 | (209) 984-9066 | (209) 984-9269 | mfox@ctibal.com.
Cloverdale Rancheria of Pomo Indians | Susan Bromley, Office Manager | 125 Mission Ranch Boulevard, Chico, CA 95926 | (530) 899-8922 Ext. 210 | (530) 899-8517 | sbromley@mechoopda-nsn.gov.
Cold Spring Rancheria | Gary Archuleta, Tribal Chairman | 1 Alverda Drive, Oroville, CA 95966 | (530) 533-3625 | (530) 533-4080 | gwarchuleta@mooretown.org.
Cortina Band of Wintun Indians (Cortina Indian Rancheria) | Charlie Wright, Tribal Chairman | P.O. Box 1630, Williams, CA 95987 | (530) 473-3274 | (530) 473-3301 | N/A.
Coyote Valley Band of Pomo Indians | Cheryl Douglas | United Auburn Indian Community, 935 Indian Rancheria Road, Auburn, CA 95603 | (916) 251-1550 | (530) 887-1028 | N/A.
Dry Creek Rancheria Band of Pomo Indians | Penny Arciniaga, Tribal Member Servcies | 1418 20th Street, Suite 200, Sacramento, CA 95811 | (916) 491-0011 | (916) 491-0012 | penny@buenavistatribe.com.
Elem Indian Colony | Agustin Garcia, Chairman | P.O. Box 757 Lower Lake, CA 95457 | (707) 994-3400 | (707) 994-3408 | t.brown@elemindiancolony.org.
Elk Valley Rancheria | Christina Jones, Council Enrollment Officer & Secretary | 2332 Howland Hill Rd., Crescent City, CA 95531 | (707) 464-4680 | (707) 464-4519 | lquinnell@elk-valley.com.
Enterprise Rancheria | Shari Ghalayini, ICWA Director | 2133 Monte Vista Ave., Oroville, CA 95966 | (530) 532-9214 | (530) 532-1768 | sharig@enterpriserancheria.org.
Ewiiaapaayp (Cuyapaipe) Band of Kumeyaay Indians | Will Micklin, CEO | 4050 Willow Road, Alpine, CA 91901 | (619) 445-6315 | (619) 445-9126 | wmicklin@leaningrock.net.
Federated Indians of Graton Rancheria | Lara Walker, Human Services | 6400 Redwood Drive, Suite 300, Rohnert Park, CA 94928 | (707) 566-2288 | (707) 566-2291 | lwalker@gratonrancheria.com.
Fort Bidwell Reservation | Chairperson | 84-245 Indio Springs Drive, Indio, CA 92201 | (760) 342-2593 | (760) 347-7880 | N/A.
Fort Independence Reservation | Tribal Council | 52701 Hwy 371, Anza, CA 92539 | (951) 763-5549 | (951) 763-2808 | tribalcouncil@cahuilla.net.
Fort Mojave Indian Tribe | Charity White-Voth, Kumeyaay Family Services Director | Southern Indian Health Council, Inc., 4058 Willow Rd., Alpine, CA 91903 | (619) 445-1188 | (619) 445-0765 | N/A.
Greenville Rancheria | Patty Allen, ICWA Coordinator | P.O. Box 279, Greenville, CA 95947 | (530) 284-7990 | (530) 284-7299 | pallen@greenvillerancheria.com.
Grindstone Rancheria | Aaston Bill | ICWA, P.O. Box 63, Elk Creek, CA 95939 | (530) 968-5365 | (530) 968-5366 | N/A.
Grindstone Rancheria | Aaston Bill | ICWA, P.O. Box 63, Elk Creek, CA 95939 | (530) 968-5365 | (530) 968-5366 | N/A.
Guidiville Rancheria | Merlene Sanchez, Tribal Chairperson | P.O. Box 339, Talmage, CA 95481 | (707) 462-3682 | (707) 462-9183 | admin@guidiville.net.
Habematolel Pomo of Upper Lake Rancheria | Angelina Arroyo, ICWA Advocate | 375 E. Hwy 20, Suite I, P.O. Box 516, Upper Lake, CA 95485-0516 | (707) 275-0737 Ext. 2 (707) 275-9050 Ext. 202 | (707) 275-0757 | aarroyo@hpultribe-NSN.gov.
Hoopa Valley Tribe | Director, Human Services | P.O. Box 1348, Hoopa, CA 95546 | (530) 625-4211 | (530) 625-4594 | N/A.
Hopland Band of Pomo Indians | Josephine Loomis, ICWA Social Case Manager | 3000 Shanel Rd., Hopland, CA 95449 | (707) 472-2100 Ext. 1114 | (707) 744-8643 | jloomis@hoplandtribe.com.
Inaja & Cosmit Band of Mission Indians | Director of Social Services | Tribal Family Services, Indian Health Council, Inc., P.O. Box 406, Pauma Valley, CA 92061 | (760) 749-1410 | (760) 749-5518 | N/A.
Ione Band of Miwok Indians | Tracy Tripp, Vice-Chair | P.O. Box 699, Plymouth, CA 95669 | (209) 257-9196 | (209) 245-6377 | tracy@ionemiwok.org.
Jackson Rancheria Band of Miwuk Indians | Marshawn Morla, Tribal Secretary | P.O. Box 1090, Jackson, CA 95642 | (209) 223-1935 | (209) 223-5366 | mmorla@jacksoncasino.com.
Jamul Indian Village | Charity White-Voth, Kumeyaay Family Services Director | Southern Indian Health Council, Inc., 4058 Willow Rd., Alpine, CA 91903 | (619) 445-1188 | (619) 445-0765 | N/A.
Karuk Tribe of California | Patricia Hobbs, LCSW, Director Child and Family Services | 1519 S. Oregon Street, Yreka, CA 96097 | (530) 841-3141 Ext. 6304 | (530) 841-5150 | phobbs@karuk.us.
Kashia Band of Pomo Indians of the Stewarts Point Rancheria | Melissa Cerda, Administrative Assistant | 1420 Guerneville Rd., Suite 1, Santa Rosa, CA 95403 | (707) 591-0580 | (707) 591-0583 | melissa@stewartspoint.org.
Klamath Tribe | Misty Barney, Child Welfare Manager | P.O. Box 436, Chiloquin, OR 97624 | (541) 783-2219 | (541) 783-7783 | misty.barney@klamathtribes.com.
Koi Nation of Northern California (Previously Lower Lake Rancheria) | Chairperson | P.O. Box 3162, Santa Rosa, CA 95402 | (707) 575-5586 | (707) 575-5506 | N/A.
La Jolla Band of Luiseno Indians | Director of Social Services | P.O. Box 406, Pauma Valley, CA 92061 | (760) 749-5518 | (707) 749-5518 | kkolb@indianhealth.com.
La Posta Band of Mission Indians | Jahari Harrison, ICWA Social Services Department | Kumeyaay, Southern Indian Health Council, Inc., 4058 Willow Rd., Alpine, CA 91903 | (619) 445-1188 | (619) 445-0765 | jarrison@sihc.org.
Laytonville Rancheria | Cherie Smith-Gibson, Tribal Administrator | P.O. Box 1239, Laytonville, CA 95454 | (707) 984-6197 Ext. 104 | (707) 984-6201 | ta@cahto.org.
Lone Pine Paiute Shoshone Reservation | Kathy Brancroft, Enrollment Committee Chairperson | P.O. Box 747, Lone Pine, CA 93545 | (760) 876-1034 | (760) 876-8302 | N/A.
Los Coyotes Band of Cahuilla & Cupeno Indians | Tribal Family Services; Director of Social Services; Indian Health Council, Inc | P.O. Box 406, Pauma Valley, CA 92061 | (760) 749-1410 | (760) 749-5518 | N/A.
Lytton Rancheria | Liz DeRouen | Indian Child and Family Preservation Program, 2525 Cleveland Ave., Suite H, Santa Rosa, CA 95403 | (707) 544-8509 | (707) 544-8729 | lizderouen@sbcglobal.net.
Manchester-Point Arena Band of Pomo Indians | Christine Dukatz, ICWA Director/Tribal Administrator | P.O. Box 623, Point Arena, CA 95468 | (707) 882-2788 Ext. 405 | (707) 882-3417 | christi.dukatz@gmail.com.
Manzanita Band of Mission Indians | Chairperson | P.O. Box 1302, Boulevard, CA 91905 | (619) 766-4930 | (619) 766-4957 | N/A.
Mechoopda Indian Tribe of the Chico Rancheria | Susan Bromley, Office Manager | 125 Mission Ranch Boulevard, Chico, CA 95926 | (530) 899-8922 Ext. 210 | (530) 899-8517 | sbromley@mechoopda-nsn.gov.
Mesa Grande Band of Mission Indians | Director of Social Services | Tribal Family Services, Indian Health Council, Inc., P.O. Box 406, Pauma Valley, CA 92061 | (760) 749-1410 | (760) 749-5518 | kkolb@indianhealth.com.
Middletown Rancheria | Mary Comito, ICWA Director | P.O. Box 1829, Middletown, CA 95461 | (707) 987-8288 (707) 326-6876 | (707) 987-8205 | mcomito@middletownrancheria.com.
Mooretown Rancheria of Maidu Indians in California | Gary Archuleta, Tribal Chairman | 1 Alverda Drive, Oroville, CA 95966 | (530) 533-3625 | (530) 533-4080 | gwarchuleta@mooretown.org.
Morongo Band of Cahuilla Mission Indians | Paula Tobler, Social Worker | 11581 Potrero Road, Banning, CA 92220 | (951) 849-4697 | (951) 922-0338 | N/A.
North Fork Rancheria of Mono Indians | Bernold Pollard, Chairperson | P.O. Box 129, Fort Birdswell Fork, CA 96112 | (530) 279-6310 | (530) 279-2233 | N/A.
Pala Band of Mission Indians | Israel Naylor, Tribal Chairman | P.O. Box 67 or 131 North Hwy 395, Independence, CA 93526 | (760) 878-5160 | (760) 878-2311 | Israel@fortindependence.com.
Paskenta Band of Nomlaki Indians | Ines Crosby, Tribal Administrator | 1012 South Street, Orland, CA 95963 | (530) 865-2010 | (530) 865-1870 | office@paskenta.org.
Pauma & Yuima Band of Mission Indians | Wallace Eddy, ICWA Representative | 621 West Line Street, Suite 109, Bishop, CA 93514 | (760) 872-3614 | (760) 872-3670 | icwa@timbisha.com.
Pechanga Band of Mission Indians | Megan Leplat, ICWA Worker | 25669 Hwy 6, PMB I, Benton, CA 93512 | (760) 933-2321 | (760) 933-2412 | meganleplat@gmail.com.
Picayune Rancheria of Chukchansi Indians | Orianna C. Walker, ICWA Coordinator | 46575 Road 417, Coarsegold, CA 93614 | (559) 683-6633 Ext. 212 | (559) 683-0599 | orianna.walker@chukchansi.net.
Pinoleville Pomo Nation | Percy A. Tejada, ICWA Coordinator | 36970 Park Avenue, Burney, CA 96013 | (530) 335-5530 | (530) 335-3140 | ICWA@PitRivertribe.org.
Pit River Tribe | Social Services Director | 2000 Rancheria Road, Redding, CA 96001-5528 | (530) 225-8979 | N/A | N/A.
Potter Valley Tribe | Salvador Rosales, Tribal Chairman | 2251 South State Street, Ukiah, CA 95482 | (707) 462-1213 | (707) 462-1240 | pottervalleytribe@pottervalleytribe.com.
Quartz Valley Indian Reservation | Mike Slizewski, ICWA Director | 13601 Quartz Valley Rd., Fort Jones, CA 96032 | (530) 468-5729 | N/A | Mike.Slizewski@qvir-nsn.gov.
Ramona Band or Village of Cahuilla Mission Indians | Susan Reckker, Tribal Administrator | P.O. Box 391670, Anza, CA 92539 | (951) 763-4105 | (951) 763-4325 | sreckker@ramonatribe.com.
Redding Rancheria | Director, Social Services | 2000 Rancheria Road, Redding, CA 96001-5528 | (530) 225-8979 | N/A | N/A.
Redwood Valley Rancheria-Band of Pomo | Chris Piekarski, ICWA Coordinator | 3250 Road I, “B” Building, Redwood Valley, CA 95470 | (707) 485-0361 | (707) 485-5726 | icwa@rvrpomo.net.
Resighini Rancheria | Keshan Dowd, Social Services Director | P.O. Box 529, Klamath, CA 95548 | (707) 482-2431 | (707) 482-3425 | keshandowd08@gmail.com.
Rincon Band of Luiseno Mission Indians | Alfonso Kalb, Sr.,Councilmen | 1 West Tribal Road, Valley Center, CA 92082 | (760) 749-1051 | (760) 749-5144 | council@rincontribe.org.
Robinson Rancheria | ICWA Coordinator | P.O. Box 4015, Nice, CA 95464 | (707) 275-0527 | (707) 275-0235 | mvasquez@robinsonrancheria.com.
Round Valley Reservation | Steven Luna, Director | 77826 Covelo Road, Covelo, CA 95428 | (707) 983-8008 | (707) 983-6060 | sluna@icwa.rvit.org.
San Manuel Band of Mission Indians | Tribal Secretary | 26569 Community Center Drive, Highland, CA 92346 | (909) 864-8933 | (909) 864-0890 | broberson@sanmanual-nsn.gov.
San Pasqual Band of Diegueno Mission Indians | Director of Social Services | Tribal Family Services, Indian Health Council, Inc., P.O. Box 406, Pauma Valley, CA 92061 | (760) 749-1410 | (760)749-5518 | N/A.
Santa Rosa Band of Cahuilla Mission Indians | Terrance Hughes, Tribal Administrator | P.O. Box 391820, Anza, CA 92539 | (951) 659-2700 | (951) 689-2228 | thughes@santarosacahuilla-nsn.gov.
Santa Rosa Rancheria—Yokut | Janice Cuara, Tribal Administrator | 16835 Alkali Drive, P.O. Box 8, Lemoore, CA 93245 | (559) 924-1278 Ext. 4051 (559) 381-4928 | (559) 925-2931 | jcuara@tachi-yokut.com.
Santa Ynez Band of Mission Indians | Caren Romero, ICWA Representative | 90 Via Juana Lane, Santa Ynez, CA 93460 | (805) 694-2671 | (805) 686-2060 | cromero@sythc.com.
Santa Ynez Band of Mission Indians | Tribal Secretary | 26569 Community Center Drive, Highland, CA 92346 | (909) 864-8933 | (909) 864-3370 | N/A.
Santa Ynez Band of Mission Indians Santa Ynez Band of Chumash Indians | Mike Slizewski, ICWA Director | 13601 Quartz Valley Rd., Fort Jones, CA 96032 | (530) 468-5907 Ext. 312 | (530) 468-5908 | Mike.Slizewski@qvir-nsn.gov.
Santa Ysabel Band of Mission Indians—Iipay Nation | Linda Ruis, Director | Santa Ysabel Social Services Dept., P.O. Box 701, Santa Ysabel, CA 92070 | (760) 765-1106 | (760) 765-0312 | N/A.
Scotts Valley Band of Pomo Indians | Tribal ICWA Worker | 301 Industrial Ave., Lakeport, CA 95453 | (707) 263-4220 | (707) 263-4345 | cmiller@svpomo.org.
Sherwood Valley Rancheria | Michael Fitzgerral, Tribal Chairman | 190 Sherwood Hill Drive, Willits, CA 95490 | (707) 459-9690 | (707) 459-6936 | svrchair@gmail.com.
Shingle Springs Band of Miwok Indians (Shingle Springs Rancheria) | Malissa Tayaba, Social Services Director | P.O. Box 1340, Shingle Springs, CA 95682 | (530) 698-1436 (530) 698-1400 | (530) 387-8041 | mtayaba@ssband.org.
Smith River Rancheria | Dorothy Perry, Director | 140 Rowdy Creek Road, Smith River, CA 95567-9446 | (707) 487-9255 | (707) 487-0930 | N/A.
Soboba Band of Luiseno Indians | Nancy Currie, Director | Soboba Tribal Family Services Dept., P.O. Box 487, San Jacinto, CA 92581 | (951) 487-0283 | (951) 487-1738 | N/A.
Susanville Indian Rancheria | Deborah Olstad, Tribal Office Manager | 745 Joaquin St., Susanville, CA 96130 | (530) 251-5153 | (530) 257-7986 | dolstad@citlink.net.
Sycuan Band of Mission Indians | Charity White-Voth, Kumeyaay Family Services Director | Southern Indian Health Council, Inc., 4058 Willow Rd., Alpine, CA 91903 | (619) 445-1188 | (619) 445-0765 | N/A.
Table Mountain Rancheria | Frank Marquez Jr., Tribal Chief of Police | 23736 Sky Harbour Rd., Friant, CA 93626 | (559) 822-6336 | (559) 822-6340 | fmarquezjr@tmr.org.
Timbi-sha Shoshone Tribe | Wallace Eddy, ICWA Representative | 621 West Line Street, Suite 109, Bishop, CA 93514 | (760) 872-3614 | (760) 872-3670 | icwa@timbisha.com.
Tolowa Dee-ni' Nation (Smith River Rancheria) | Dorothy Perry, Director | Community & Family Services 110 W. 1t St., Smith River, CA 95567 | (707) 487-9255 | (707) 487-0137 | dwait@tolowacom
Torres Martinez Desert Cahuilla Indians | Annette Chihuahua, ICWA Case Assistant/Tribal Delegate | TMDCI 66-725 Martinez Rd., Thermal, CA 92274 | (760) 578-8334 (760) 397-0455 | (760) 397-1019 | achihuahua@tmdci.org.
Trinidad Rancheria (Cher-Ae Heights Indian Community of the Trinidad Rancheria) | Amy Atkins, Executive Manager | P.O. Box 630, Trinidad, CA 95570 | (707) 677-0211 | (707) 677-3921 | aatkins@trinidadrancheria.com.
Tule River Reservation | Lolita Garfield, MSW, Director Family Social Services | 340 North Reservation Road, Porterville, CA 93258 | (559) 781-4271 Ext. 1013 | (559) 791-2122 | icwadir@tulerivertribe-nsn.gov.
Tuolumne Band of Me-Wuk Indians of the Tuolumne Rancheria of California | ICWA Representative | P.O. Box 615, Tuolumne, CA 95379 | (209) 928-5357 | N/A | N/A.
Twenty-Nine Palms Band of Mission Indians | Executive Director | Indian Child & Family Services, P.O. Box 2269, Temecula, CA 92590 | (951) 676-8832 | (951) 676-3950 | N/A.
Tyme Maidu Tribe (Berry Creek Rancheria) | Terilynn Steel, ICWA Supervisor | 5 Tyme Way, Oroville, CA 95966 | (530) 534-3859 | (530) 534-1151 | jessebrown@berrycreekrancheria.com.
United Auburn Indian Community of the Auburn Rancheria of California | Judy Beck, Director Community Services | United Auburn Indian Community, 935 Indian Rancheria Road, Auburn, CA 95603 | (916) 251-1550 | (530) 887-1028 | jbeck@auburnrancheria.com.
Utu Utu Gwaitu Paiute Tribe of the Benton Reservation | Chairperson | P.O. Box 3060, Trinidad, CA 95570 | (707) 826-2079 | (707) 826-0495 | N/A.
Viejas (Baron Long) Band of Mission Indian. | Jahari Harrison, ICWA Social Services Department | Southern Indian Health Council, Inc., 4058 Willow Rd., Alpine, CA 91903 | (619) 445-1188 Ext. 208 | (619) 445-0765 | jharrison@sihc.org.
Wilton Rancheria | Vanessa Pady, Director | ICWA 9728 Kent St., Elk Grove, CA 95624 | (707) 683-6000 Ext. 2014 | (916) 683-6015 | vpady@wiltonrancheria-nsn.gov.
Wiyot Tribe | Christina Jones, Council Enrollment Officer & Secretary | 1000 Wiyot Drive, Loleta, CA 95551 | (707) 733-5055 | (707) 482-1377 | N/A.
Yocha Dehe Wintun Nation (previously listed as the Rumsey Indian Rancheria of Wintun Indians) | James Kinter, Tribal Council Secretary | P.O. Box 18, Brooks, CA 95606 | (530) 796-3400 | (530) 796-2143 | djones@yochadehe-nsn.gov.
Yurok Tribe | Stephanie Weldon, Social Services Director | P.O. Box 1027, Klamath, CA 95548 | (707) 482-1350 | (707) 482-1368 | sweldon@yuroktribe.nsn.us.

9. Rocky Mountain Region

Rocky Mountain Regional Director, 2021 4th Avenue, Billings, MT 59101; Phone: (406) 247-7943; Fax: (406) 247-7976

Tribe | ICWA POC | Mailing address | Phone No. | Fax No. | Email address
Blackfeet Tribe of Montana | Kathy Calf Boss Ribs, ICWA Coordinator, Darlene H. Peterson, ICWA Inquiry Technician | P.O. Box 588 Browning, MT 59417 | (406) 338-7806 | (406) 338-7726 | kathybossribs@yahoo.com.
Chippewa Cree Tribe of the Rocky Boy's Reservation of Montana | Shaneen Raining Bird Hammond, Designated Tribal Agent | 31 Agency Square, Box Elder, MT 59521 | (406) 395-5709 | (406) 395-5702 | rainingbirds@yahoo.com.
Confederated Salish & Kootenai Tribes | Lena Twawina,ICWA Worker | P.O. Box 278, Pablo, MT 59855 | (406) 675-2700 Ext. 1087 | (406) 275-2749 | Lenat@cskt.org.
Crow Tribe of the Crow Reservation of Montana | Rebecca Buffalo, ICWA Coordinator | P.O. Box 340, Crow Agency, MT 59022 | (406) 679-2772 | N/A | Rebecca.buffalo@crow-nsn.gov.
Eastern Shoshone Tribe of the Wind River Reservation | Amella Oldman, ICWA Coordinator | P.O. Box 1796, Fort Washakie, WY 82514 | (307) 332-6591 | (307) 332-6593 | artoldman@gmail.com.
Fort Belkanp Indian Community | Myron L. Trottier, ICWA Case Manager | Fort Belknap Social Services 656 Agency Main Street, Harlem, MT 59526 | (406) 353-8328 | (406) 353-4634 | mtrottier@ftbelknap.org.
Fort Peck Assiniboine and Sioux Tribes | Phyllis Spotted Wolf, Designated Tribal Agent | P.O. Box 1027, Poplar, MT 59255 | (406) 768-2308 | (406) 768-3710 | pspottedwolf@fortpecktribes.
Northern Arapaho Tribe of the Wind River Reservation | June Shakespeare, ICWA Coordinator | P.O. Box 77, St. Stevens, WY 82524 | (307) 857-5728 | (307) 857-5741 | june.shakespeare@wyo.gov.
Northern Cheyenne Tribe | Michelle Littlewold Sandcrane, Acting, ICWA Coordinator | P.O. Box 128, Lame Deer, MT 59043 | (406) 477-4830 | (406) 477-8333 | Michelle.littlewolf@cheyennenation.com.

10. Southern Plains Region

Southern Plains Regional Director, P.O. Box 368, Anadarko, OK 73005; Phone: (405) 247-6673 Ext. 217; Fax: (405) 247-5611.

Tribe | ICWA POC | Mailing address | Phone No. | Fax No. | Email address
Absentee-Shawnee Tribe of Oklahoma Indians | Ronell Baker, ICW Director | 2025 S. Gordon Cooper Drive, Shawnee, OK 74801 | (405) 275-4030 Ext. 6375 | (405) 878-4543 | rbaker@omtribe.com.
Alabama Coushatta Tribe of Texas | Melissa Celestine, ICW Director | 571 State Park Road, #56, Livingston, Texas 77351 | (936) 563-1253 | (936) 563-1254 | celestine.melissa@actribe.org
Apache Tribe of Oklahoma (Kiowa) | Shannon Ahtone, ICW Director | P.O. Box 369, Carnegie, Oklahoma 73015 | (580) 654-2439 | (580) 654-2363 | shannon_kiowa_icw@yahoo.com.
Caddo Nation of Oklahoma (Wichita & Affiliated Tribes) | Pamela Satepauhoodle, ICW Caseworker | P.O. Box 729, Anadarko, OK 73005 | (405) 247-8624 | (405) 247-3256 | pamela.satepauhoodle@wichitatribe.com.
Cheyenne and Arapaho Tribes of Oklahoma | Terra Long, ICW Coordinator | P.O. Box 38, Concho, OK 73022 | (405) 422-7737 (405) 201-3188 | (405) 422-8249 | tlong@c-a-tribes.org.
Citizen Potawatomi Nation | Janet Draper, ICW Director | 1601 S. Gordon Cooper Drive, Shawnee, OK 74801 | (405) 878-4831 | (405) 878-4659 | jdraper@potawatomi.org.
Comanche Nation-Oklahoma | Carol Mithlo, ICW Director | P.O. Box 908, Lawton, OK 73502 | (580) 280-4751 | (580) 354-0808 | carolm@comanchenation.com.
Delaware Nation | Cassandra Acuna, ICW Director | P.O. Box 825, Anadarko, OK 73005 | (405) 247-2448 Ext. 1152 | (405) 247-5942 | cacuna@delawarenation.com.
Fort Sill Apache Tribe of Oklahoma | Ramona Austin, ICWA Director | Rt.2, Box 121, Apache, OK 73006 | (580) 522-2298 Ext. 109 | (580) 588-3133 | mona.austin@fortsillapache-nsn.gov.
Iowa Tribe of Kansas | Chairperson | 3345 B. Thrasher Rd., White Cloud, KS 66094 | (785) 595-3258 | (785) 595-6610 | N/A.
Iowa Tribe of Oklahoma | Ashley Hall, ICW Director | Rt. 1, Box 721 Perkins, OK 74059 | (405) 547-2402 | (405) 547-1060 | ahall@iowanation.org.
Kaw Nation | Roger Sober, ICW Director | Drawer 50, Kaw City, Oklahoma 74641 | (580) 269-2003 | (580) 269-2113 | rsober@kawnation.com.
Kickapoo Traditional Tribe in Texas | Arianna Perez, ICW Director | 2212 Rosita Valley Road, Eagle Pass, Texas 78852, Attn: ICW | (830) 421-6300 | N/A | arianna.perez@ktttribe.org.
Kickapoo Tribe of Indians of The Kickapoo Reservation in Kansas | Timothy Oliver, ICW Director | P.O. Box 271, Horton, KS 66439 | (785) 486-2131 | N/A | timothy.oliver@ktik-nsn.gov.
Kickapoo Tribe of Oklahoma | Indian Child Welfare Director | P.O. Box 469, McLoud, OK 74851 | (405) 964-5426 | (405) 964-5431 | N/A.
Kiowa Tribe of Oklahoma | Shannon Ahtone, ICW Director | P.O. Box 369, Carnegie, Oklahoma 73015 | (580) 654-2439 | (580) 654-2363 | shannon_kiowa_icw@yahoo.com.
Otoe-Missouria Indian Tribe of Oklahoma | Andrea Kihega, ICWA Director | 8151 Highway 177 Red Rock, OK 74651 | (580) 723-4466 Ext. 256 or Cell Phone (580) 307-7303 | (580) 723-1016 | akihega@omtribe.org.
Pawnee Nation of Oklahoma | Amanda Farren, ICWA Director | P.O. Box 470, Pawnee, OK 74058 | (918) 762-3621 Ext. 175 | N/A. | afarren@pawneenation.org
Ponca Tribe of Oklahoma | Amy Oldfiend, ICW Director | 20 White Eagle Drive, Ponca City, OK 74601 | (580) 763-0133 | (580) 763-0134 | amyoponka@gmail.com.
Prairie Band of Potawatomi Nation | Tammy Sweeney, ICW Director | 16281 Q. Road, Mayetta, KS 66509 | (785) 966-2932 Ext. 8325 | (786) 966-2950 | tammysweeney@pbpnation.org.
Sac and Fox Nation in Kansas and Nebraska | Chasity Davis, ICW Director | 305 N. Main Street, Reserve, KS 66434 | (785) 742-4708 | (785) 288-1163 | cdavis@sacandfoxcasino.com.
Sac and Fox Nation, Oklahoma | Karen Hamilton, ICW Director | 215 North Harrison, Shawnee, Ok 74801 | (918) 968-3526 Ext. 1711 | N/A. | karen.hamilton@sacandfoxnation-nsn.gov.
Tonkawa Tribe of Oklahoma | Christi Gonzalez, ICW Director | P.O. Box 70, Tonkawa, OK 74653 | (580) 628-7025 | N/A | cgonzalez@tonkawatribe.com.
Wichita and Affiliated Tribe of Oklahoma | Joan Williams, ICW Director | P.O. Box 729, Anadarko, OK 73005 | (405) 247-8627 | (405) 247-3256 | joan.williams@wichitatribe.com.

11. Southwest Region

Southwest Regional Director, 1001 Indian School Road NW, Albuquerque, NM 87104; Phone: (505) 563-3103; Fax: (505) 563-3101.

Tribe | ICWA POC | Mailing address | Phone No. | Fax No. | Email address
Jicarilla Apache Nation | Regina Keeswood, ICWA Social Worker | P.O. Box 546, Dulce, NM 87528 | (575) 759-1712 | (575) 759-3757 | rkeeswood@jbhd.org.
Mescalero Apache Tribe | Crystal Lester, Tribal Census Clerk | P.O. Box 227, Mescalero, NM 88340 | (575) 464-4494 | (575) 464-9191 | clester@mescaleroapachetribe.com.
Pueblo of Acoma | Donalyn Sarracino, Social Services Director | P.O. Box 354, Acoma, NM 87034 | (505) 552-5162 | (505) 552-0903 | dsarracino@puebloofacoma.org.
Pueblo of Cochito | Tanya Devon Torres, ICWA Specialist | P.O. Box 70, Cochiti Pueblo, NM 87072 | (505) 564-0125 | (505) 465-3173 | tanya_torres@pueblodecochiti.org.
Pueblo of Isleta | Caroline Dailey, Social Services Director | P.O. Box 1270, Isleta, NM 87022 | (505) 869-2777 | (505) 869-7575 | poi05001@isletapueblo.com.
Pueblo of Isleta | Jacqueline Yalch, ICWA Coordinator | P.O. Box 1270, Isleta, NM 87022 | (505) 869-2772 or (505) 869-5283 | (505) 869-7575 | poi05001@isletapueblo.com.
Pueblo of Jemez | Annette Gachupin, Child Advocate | P.O. Box 340, Jemez Pueblo, NM 87024 | (575) 834-7117 | (575) 834-7103 | agachupin@jemezpueblo.us.
Pueblo of Laguna | Colinda Vallo, Program Manager | Social Services Department, P.O. Box 194, Laguna, NM 87026 | (505) 552-9172 (505) 552-5677 | (505) 552-6387 | cvallo@lagunapueblo-nsn.gov.
Pueblo of Nambe | Julie Bird, ICWA Manager | 15 A NP 102 West, Santa Fe, NM 87506 | (505) 445-4410 | (505) 455-4455 | jbird@nambepueblo.org.
Pueblo of Picuris | Debra Sheyayme-King, ICWA Director | ICWA, P.O. Box 127, Penasco, NM 87553 | (575) 587-1003 | (575) 587-1071 | icwa@picurispueblo.org.
Pueblo of Pojoaque | Elizabeth Duran, MSW, MPH Director/Social Services Director | 58 Cities of Gold Rd., Suite 4, Santa Fe, NM 87506 | (505) 455-0238 | (505) 455-2363 | eduran@pojoaque.org.
Pueblo of San Felipe | Darlene J. Valencia, Family Services Director | P.O. Box 4339, San Felipe Pueblo, NM 87001 | (505) 771-9978 | (505) 867-6166 | dvalencia@sfpueblo.com.
Pueblo of San Ildelfonso | Lenora Arrietta or Dolly Narang. ICWA/Family Advocates | 02 Tunyo Po, Santa Fe, NM 87506 | (505) 455-4164 (505) 699-0164 | (505) 455-7942 | icwamanager@sanipueblo.org; dnarang@sanipueblo.org.
Ohkayowingeh | Rochelle Thompson, ICWA Manager | P.O. Box 1187 Ohkayowingeh, NM 87566 | (575) 852-4400 | (505) 692-0333 | Rochelle.thompson@Ohkayowingeh-nsn.org.
Pueblo of Sandia | Kimberly Lorenzini, Case Manager | 481 Sandia Loop, Bernalillo, NM 87004 | (505) 771-5117 | (505) 867-7099 | klorenzini@sandiapueblo.nsn.us.
Pueblo of Santa Ana | Mary E. Templin, Social Services Manager | 02 Dove Road, Santa Ana Pueblo, NM 87004 | (505) 771-6737 | (505) 771-6537 | mary.templin@santaana-nsn-gov.
Pueblo of Santa Clara | Dennis Silva, Director of Social Services | P.O. Box 580, Espanola, NM 87532 | (505) 753-0419 | (505) 753-0420 | dsilva@santaclarapueblo.org.
Pueblo of Santo Domingo—Kewa | Virginia Tenorio, Family Services Worker | P.O. Box 129, Santo Domingo, NM 87052 | (505) 465-0630 | (505) 465-2688 | vtenorio@kewa-nsn.gov.
Pueblo of Santo Domingo—Kewa | Dora Bailon, Social Services Director | P.O. Box 129, Santo Domingo, NM 87052 | (505) 465-0630 | (505) 465-2688 | dbailon@kewa-nsn.gov.
Pueblo of Taos | Stacie Waters, Social Services Manager | P.O. Box 1846, Taos, NM 87571 | (575) 758-7824 | (575) 758-3346 | swaters@taospueblo.com.
Pueblo of Tesuque | Donna Quintana, ICWA Coordinator | Box 360-T, Route 42, Santa Fe, NM 87506 | (505) 955-7713 | (505) 820-7780 | donna.quintana@pueblooftesuque.org.
Pueblo of Zia | Kateri Chino, MSW, Health & Wellness Director | 135 Capital Square Drive, Zia Pueblo, NM 87053 | (505) 401-6830 | (505) 867-6014 | kchino@ziapueblo.org.
Pueblo of Zuni | Betty Nez, Social Services Director | P.O. Box 339, Zuni, NM 87327 | (505) 782-7166 | (505) 782-7221 | betty.nez@ashiwi.org.
Ramah Navajo | Loretta Martinez, Social Service Director | Ramah Navajo School Board, Inc. Ramah Navajo Social Service Program, P.O. Box 250, Pinehill, NM 87357 | (505) 775-3221 | (505) 775-3520 | lorettamrtnz@yahoo.com.
Southern Ute Indian Tribe | Jeri Sindelar, Caseworker; Peg Rogers, Social Services Attorney | MS 53, P.O. Box 737, Ignacio, CO 81137 | (970) 563-0100 Ext. 2332 | (970) 563-4854 | jsindelar@southernute-nsn.gov; dsattorney@southernute-nsn.gov.
Ute Mountain Ute Tribe (Colorado & Utah) | Katherine Jacket, Acting Social Services Director | P.O. Box 309, Towaoc, CO, 81334 | (970) 564-5302 | (970) 564-5300 | kjacket@utemountain.org.
Ysleta Del Sur Pueblo | Jesus A Donacio, ICWA Program Specialist | 9314 Juanchido Ln., El Paso, TX 79907 | (915) 860-6170 | (915) 242-6556 | jdonacio@ydsp-nsn.gov.

12. Western Region

Western Regional Director, 2600 North Central Avenue, Phoenix, AZ 85004; Phone: (602) 379-6600; Fax: (602) 379-4413.

Tribe | ICWA POC | Mailing address | Phone No. | Fax No. | Email address
Ak-Chin Indian Community | Dorissa Garcia, Enrollment Coordinator | 42507 West Peters & Nall Road, Maricopa, AZ 85138 | (520) 568-1074 | (520) 568-1079 | dgarcia@ak-chin.nsn.us.
Battle Mountain Band Council | Bertha Cazares, ICWA Coordinator | 37 Mountain View Drive, Battle Mountain, NV 89820 | (775) 455-1663 | (775) 635-8528 | bmbicwa@outlook.com.
Chemehuevi Indian Tribe | Dawn MacElwain, ICWA Director | P.O. Box 1976, Havasu Lake, CA 92363 | (760) 858-5426 | (760) 858-5400 | citiwa@yahoo.com.
Cocopah Indian Tribe | Rafael D. Morales, Jr., ICWA Worker | 14515 South Veterans Drive, Somerton, AZ 85350 | (928) 627-3729 | (928) 627-3316 | moralesr@cocopah.com.
Colorado River Indian Tribes | Elizabeth Lorina-Mills, Deputy Attorney General | 26600 Mohave Road, Parker, AZ 85344 | (928) 669-1271 | (928) 669-5675 | emills@critdoj.com.
Confederated Tribes of the Goshute Reservation | Debbie McCollum, ICWA Coordinator | HC61 Box 6104, Ibapah, UT 84034 | (435) 234-1178 | (435) 234-1162 | ctgriccwa@gmail.com.
Duckwater Shoshone Tribe | Iskandar Alexandar, LCSW, Social Worker | P.O. Box 140087, Duckwater, NV 89314 | (775) 863-0222 | (775) 863-0142 | Iskandar.alexandar@ihs.gov.
Elko Band Council of Te-Moak Tribe | Marlene Dick, Social Worker | 1745 Silver Eagle Drive, Elko, NV 89801 | (775) 738-9310 | (775) 778-3397 | ssworker@elkoband.org; icwa@elkoband.org.
Ely Shoshone Tribe | Georgia Valdez, Social Services Worker | 16 Shoshone Circle, Ely, NV 89301 | (775) 289-4133 | (775) 289-3237 | N/A
Fallon Paiute-Shoshone Tribe | Jennifer Pishion, Social Services Director | 1007 Rio Vista Drive, Fallon, NV 89406 | (775) 423-1215 | (775) 423-8960 | ssdirector@fpst.org.
Fort McDermitt Paiute-Shoshone Tribe | Dee Crutcher, ICWA Advocate | P.O. Box 68, McDermitt, NV 89421 | (775) 532-8263 Ext. 111 | (775) 532-8060 | dee.crutcher@fmpst.org.
Fort McDowell Yavapai Tribe | James Esquirell, ICWA Coordinator/CPS Worker Wassaja Family Services | P.O. Box 17779, Fountain Hills, AZ 85269 | (480) 789-7990 | (480) 837-4809 | jesquirell@ftmcdowell.org.
Gila River Indian Community | Sara Bissen, Child & Family Welfare Administrator | P.O. Box 427, Sacaton, AZ 85147 | (520) 562-3396 | (520) 562-3633 | Sara.bissen@gric.nsn.us.
Gila River Pima-Maricopa Indian Community | Antoinette Enos, ICWA Case Manager | P.O. Box 427, Sacaton, AZ 85147 | (520) 562-3396 | (520) 562-3633 | antoinette@gric.nsn.us.
Havasupai Tribe | Erika Marshall, ICWA Coordinator | P.O. Box 10, Supai, AZ 86435 | (928) 448-2661 | N/A | hticwa@havasupai-nsn.gov.
Hopi Tribe | Eva Sekayumptew, MSW, Social Services Clinical Supervior | P.O. Box 945, Polacca, AZ 86042 | (928) 737-1800 | (928) 737-2697 | N/A
Hualapai Tribe | Idella Keluche, ICWA Worker | P.O. Box 480, Peach Springs, AZ 86434 | (928) 769-2269/2383/2384/2397 | (928) 769-2659 | ikeluche@hualapai-nsn.gov.
Kaibab Band of Paiute Indians | Vincent A. Toya, Tribal Adminstator | HC 65 Box 2, Fredonia, AZ 86022 | (928) 643-7245 | (888) 939-3777 | vtoya@kaibabpaiute-nsn.gov.
Las Vegas Paiute Tribe | Chris Doss, LCSW, Social Services | 1257 Paiute Circle, Las Vegas, NV 89106 | (702) 382-0784, Ext. 410 | (702) 384-5272 | cdoss@lvpaiute.com.
Lovelock Paiute Tribe | Valerie Bill, Social Services Director | P.O. Box 878, Lovelock, NV 89419 | (775) 273-7861, Ext. 24 | (775) 273-7631 | socialservices@lovelockpaiutetribe.com.
Moapa Band of Paiutes | Darren Daboda, Chairman | One Lincoln Street, Moapa, NV 89025 | (702) 865-2787 | (702) 864-2875 | d_daboda@yahoo.com.
Paiute Indian Tribe of Utah | Tyler Goddard, Behavioral Care Director | 440 North Paiute Drive, Cedar City, UT 84721 | (435) 586-1112 | (435) 867-1516 | tyler.goddard@ihs.gov.
Pascua Yaqui Tribe | Tamara Walters, Assistant Attorney General | Office of the Attorney General, 7777 S. Camino Huivisim, Bldg. C, Tucson, AZ 85757 | (520) 883-5108 | (520) 883-5084 | tamara.walters@pascuayaqui-nsn.gov.
Pyramid Lake Paiute Tribe | Charlene Dressler, Social Services Director | P.O. Box 256, Nixon, NV 89424 | (775) 574-1047 | (775) 574-1052 | cdressler@plpt.nsn.us.
Quechan Indian Tribe | Cody Hartt, ICWA Specialist/Tribal Representative | P.O. Box 189, Yuma, AZ 85364 | (760) 570-0201 | (760) 572-2099 | icwaspecialist@quechantribe.com.
Reno-Sparks Indian Colony | Adriana Botello, Human Services Director | 405 Golden Lane, Reno, NV 89502 | (775) 329-5071 | (775) 785-8758 | abotello@rsic.org.
Salt River Pima-Maricopa Indian Community | Allison Miller, ICWA Coordinator | SRPMIC Social Services Division, 10005 East Osborn Road, Scottsdale, AZ 85256 | (480) 362-5645 or (480) 362-7533 | (480) 362-5574 | Allison.Miller@srpmic-nsn.gov.
San Carlos Apache Tribe | Aaron Begay, ICWA Coordinator | P.O. Box 0, San Carlos, AZ 85550 | (928) 475-2313 | (928) 475-2342 | abegay09@tss.scat-nsn.gov.
San Juan Southern Paiute Tribe | Carlene Yellowhair, President | P.O. Box 2950 Tuba City, AZ 86045 | (928) 283-4762 | (928) 283-4758 | cyellowhairsjspt.president@outlook.com.
Shoshone-Paiute Tribes of the Duck Valley Reservation | Roberta Hanchor, Social Worker | P.O. Box 219, Owyhee, NV 89832 | (775) 757-2921 | (775) 757-2910 | Hanchor.roberta@shopai.org.
Skull Valley Band of Goshute Indians | Candace Bear, Chairwoman | 407 Skull Valley Road, Skull Valley, UT 84029 | (435) 831-4079 |  | candaceb@svgoshutes.com.
South Fork Band of Te-Moak Tribe | Debbie Honeyestewa, Interim Social Worker | 21 Lee, B-13, Spring Creek, NV 89815 | (775) 744-4273 Ext. 106 | (775) 744-4523 | debbiehoneyestewa@yahoo.com.
Summit Lake Paiute Tribe | Page Linton, Chairwoman | 1001 Rock Blvd., Sparks, NV 89431 | (775) 827-9670 | (775) 827-9678 | page.linton@summitlake tribe.org.
Tohono O'Odham Nation | Chad Smith, Attorney General | P.O. Box 830, Sells, AZ 85634 | (520) 383-3410 | (520) 383-2689 | Chad.smith@tonation-nsn.gov.
Tonto Apache Tribe of Arizona | Brian Echols, Social Services Director | T.A.R. #30, Payson, AZ 85541 | (928) 474-5000 Ext. 8120 | (928) 474-4159 | bechols@tontoapache.org.
Ute Indian Tribe | Floyd M. Wyasket, Social Services Director | Box 190, Fort Duchesne, UT 84026 | (435) 725-4026 or (435) 823-0141 | (435) 722-5030 | floydw@utetribe.com.
Washoe Tribe of Navada and California | Stacy L. Stahl, Social Services Director | 919 HWY 395, North Gardenville, NV 89410 | (775) 265-8691 | (775) 265-4593 | Stacy.Stahl@washoetribe.us.
Walker River Paiute Tribe | Elliott Aguilar, ICWA Specialist | Social Services Department, P.O. Box 146, 1025 Hospital Road, Schurz, NV 89427 | (775) 773-2058 | (775) 773-2096 | eaguilar@wrpt.gov.
Wells Band Council of Te-Moak Tribe | Sarai Berumen, Social Services Coordinator | P.O. Box 809, Wells, NV 89835 | (775) 752-3045 Ext. 1009 | (775) 752-2179 | wellsbandssicwa@gmail.com.
White Mountain Apache Tribe of the Fort Apache Reservation | Cora Hinton, ICWA Representative/CPS Supervisor | P.O. Box 1870, Whiteriver, AZ 85941 | (928) 338-4164 | (928) 338-1469 | chinton@wmat.us.
Winnemucca Tribe | Judy Rojo, Chairperson | 595 Humboldt Street, Reno, NV 89509 | (775) 329-5800 | (775) 329-5819 | N/A
Yavapai-Apache Nation of the Camp Verde Indian Reservation | Delight Lyons, ICWA Coordinator | 2400 West Datsi Street, Camp Verde, AZ 86322 | (928) 649-7108 | (928) 567-6832 | dkplunkett@yan-tribe.org.
Yavapai-Prescott Indian Tribe | Virgil R. Amos, Family Support Supervisor | 530 East Merritt, Prescott, AZ 86301 | (928) 515-7351 | (928) 541-7945 | vamos@ypit.com.
Yerington Paiute Tribe | Vonnie Snooks, Human Services Assistant | 171 Campbell Lane, Yerington, NV 89447 | (775) 312-0114 | (775) 463-5929 | vsnooks@ypt-nsn.gov.
Yomba Shoshone Tribe | Samantha Gentry, Social Services Eligibility Worker | HC 61 Box 6275, Austin, NV 89310 | (775) 964-2463 Ext.107 | (775) 964-1352 | yombasocialservices@gmail.com.

B. Tribal Agents by Tribal Affiliation

Please see the following web page for a list of Tribal agents organized by Tribal affiliation: http://www.bia.gov/WhoWeAre/BIA/OIS/HumanServices/index.htm.

Dated: May 29, 2018.
John Tahsuda,
Principal Deputy Assistant Secretary—Indian Affairs, Exercising the Authority of the Assistant Secretary—Indian Affairs.

[FR Doc. 2018-11924 Filed 6-1-18; 8:45 am]

BILLING CODE 4337-15-P